DEPARTMENT OF LABOR

Employment Standards Administration, Wage and Hour Division

Minimum Wages for Federal and Federally Assisted Construction; General Wage Determination Decision

General wage determination decisions of the Secretary of Labor are issued in accordance with applicable law and are based on the information obtained by the Department of Labor from its study of local wage conditions and data made available from other sources. They specify the basis hourly wage rates and fringe benefits which are determined to be prevailing for the described classes of laborers and mechanics employed on construction projects of a similar character and in the localities specified therein.

The determinations in these decisions of prevailing rates and fringe benefits have been made in accordance with 29 CFR Part 1, by authority of the Secretary of Labor pursuant to the provisions of the Davis-Bacon Act of March 3, 1931, as amended (46 Stat. 1494, as amended, 40 U.S.C. 27a) and of other Federal statutes referred to in 29 CFR Part 1, Appendix, as well as such additional statutes as may from time to time be enacted containing provisions for the payment of wages determined to be prevailing by the Secretary of Labor in accordance with the Davis-Bacon Act. The prevailing rates and fringe benefits determined in these decisions shall, in accordance with the provisions of the foregoing statutes, constitute the minimum wages payable on Federal and federally assisted construction projects to laborers and mechanics of the specified classes engaged on contract work of the character and in the localities described therein.

Good cause is hereby found for not utilizing notice and public comment procedure thereon prior to the issuance of these determinations as prescribed in 5 U.S.C. 553 and not providing for delay in the effective date as prescribed in that section, because the necessity to issue current construction industry wage determinations frequently and in large volume causes procedures to be impractical and contrary to the public interest.

General wage determinations decisions, and modifications and supersedeas decisions thereto, contain no expiration dates and are effective from their date of notice in the Federal Register, or on the date written notice is received by the agency, whichever is earlier. These decisions are to be used in accordance with the provisions of 29 CFR Parts 1 and 5. Accordingly, the applicable decision, together with any modifications issued, must be made a part of every contract for performance of the described work within the geographic area indicated as required by an applicable Federal prevailing wage law and 29 CFR Part 5. The wage rates and fringe benefits, notice of which is published herein, and which are contained in the Government Printing Office (GPO) document entitled “General Wage Determinations Issued Under the Davis-Bacon and Related Acts,” shall be the minimum paid by contractors and subcontractors to laborers and mechanics.

Any person, organization, or government agency having an interest in the rates determined as prevailing is encouraged to submit wage rate and fringe benefit information for consideration by the Department. Further information and self-explanatory forms for the purpose of submitting this data may be obtained by writing to the U.S. Department of Labor, Employment Standards Administration, Wage and Hour Division, Division of Wage Determinations, 200 Constitution Avenue, N.W., Room S-3014, Washington, D.C. 20210.

Supersedeas Decisions to General Wage Determination Decisions

The number of decisions being superseded and their date of notice in the Federal Register are listed with each State. Supersedeas decision numbers are in parentheses following the number of decisions being superseded.

Volume I

Connecticut

CT99-01 (Mar. 12, 1999) (CT00-01)

CT99-02 (Mar. 12, 1999) (CT00-02)

CT99-03 (Mar. 12, 1999) (CT00-03)

CT99-04 (Mar. 12, 1999) (CT00-04)

CT99-05 (Mar. 12, 1999) (CT00-05)

CT99-06 (Mar. 12, 1999) (CT00-06)

CT99-07 (Mar. 12, 1999) (CT00-07)

CT99-08 (Mar. 12, 1999) (CT00-08)

Massachusetts

MA99-01 (Mar. 12, 1999) (MA00-01)

MA99-02 (Mar. 12, 1999) (MA00-02)

MA99-03 (Mar. 12, 1999) (MA00-03)

MA99-04 (Mar. 12, 1999) (MA00-04)

MA99-05 (Mar. 12, 1999) (MA00-05)

MA99-06 (Mar. 12, 1999) (MA00-06)

MA99-07 (Mar. 12, 1999) (MA00-07)

MA99-08 (Mar. 12, 1999) (MA00-08)

MA99-09 (Mar. 12, 1999) (MA00-09)

MA99-10 (Mar. 12, 1999) (MA00-10)

MA99-11 (Mar. 12, 1999) (MA00-11)

MA99-12 (Mar. 12, 1999) (MA00-12)

MA99-13 (Mar. 12, 1999) (MA00-13)

MA99-14 (Mar. 12, 1999) (MA00-14)

MA99-15 (Mar. 12, 1999) (MA00-15)

MA99-16 (Mar. 12, 1999) (MA00-16)

MA99-17 (Mar. 12, 1999) (MA00-17)

MA99-18 (Mar. 12, 1999) (MA00-18)

MA99-19 (Mar. 12, 1999) (MA00-19)

MA99-20 (Mar. 12, 1999) (MA00-20)

MA99-21 (Mar. 12, 1999) (MA00-21)

Maine

ME99-01 (Mar. 12, 1999) (ME00-01)

ME99-02 (Mar. 12, 1999) (ME00-02)

ME99-03 (Mar. 12, 1999) (ME00-03)

ME99-04 (Mar. 12, 1999) (ME00-04)

ME99-05 (Mar. 12, 1999) (ME00-05)

ME99-06 (Mar. 12, 1999) (ME00-06)

ME99-07 (Mar. 12, 1999) (ME00-07)

ME99-08 (Mar. 12, 1999) (ME00-08)

ME99-09 (Mar. 12, 1999) (ME00-09)

ME99-10 (Mar. 12, 1999) (ME00-10)

ME99-11 (Mar. 12, 1999) (ME00-11)

ME99-12 (Mar. 12, 1999) (ME00-12)

ME99-13 (Mar. 12, 1999) (ME00-13)

ME99-14 (Mar. 12, 1999) (ME00-14)

ME99-15 (Mar. 12, 1999) (ME00-15)

ME99-16 (Mar. 12, 1999) (ME00-16)

ME99-17 (Mar. 12, 1999) (ME00-17)

ME99-18 (Mar. 12, 1999) (ME00-18)

ME99-19 (Mar. 12, 1999) (ME00-19)

ME99-20 (Mar. 12, 1999) (ME00-20)

ME99-21 (Mar. 12, 1999) (ME00-21)

ME99-22 (Mar. 12, 1999) (ME00-22)

ME99-23 (Mar. 12, 1999) (ME00-23)

ME99-24 (Mar. 12, 1999) (ME00-24)

ME99-25 (Mar. 12, 1999) (ME00-25)

ME99-26 (Mar. 12, 1999) (ME00-26)

ME99-27 (Mar. 12, 1999) (ME00-27)

ME99-28 (Mar. 12, 1999) (ME00-28)

ME99-29 (Mar. 12, 1999) (ME00-29)

ME99-30 (Mar. 12, 1999) (ME00-30)

ME99-31 (Mar. 12, 1999) (ME00-31)

ME99-32 (Mar. 12, 1999) (ME00-32)

ME99-33 (Mar. 12, 1999) (ME00-33)

ME99-34 (Mar. 12, 1999) (ME00-34)

ME99-35 (Mar. 12, 1999) (ME00-35)

ME99-36 (Mar. 12, 1999) (ME00-36)

ME99-37 (Mar. 12, 1999) (ME00-37)

ME99-38 (Mar. 12, 1999) (ME00-38)

New Hampshire

NH99-01 (Mar. 12, 1999) (NH00-01)

NH99-02 (Mar. 12, 1999) (NH00-02)

NH99-03 (Mar. 12, 1999) (NH00-03)

NH99-04 (Mar. 12, 1999) (NH00-04)

NH99-05 (Mar. 12, 1999) (NH00-05)

NH99-06 (Mar. 12, 1999) (NH00-06)

NH99-07 (Mar. 12, 1999) (NH00-07)

NH99-08 (Mar. 12, 1999) (NH00-08)

NH99-09 (Mar. 12, 1999) (NH00-09)

NH99-10 (Mar. 12, 1999) (NH00-10)

NH99-11 (Mar. 12, 1999) (NH00-11)

NH99-12 (Mar. 12, 1999) (NH00-12)

NH99-13 (Mar. 12, 1999) (NH00-13)

NH99-14 (Mar. 12, 1999) (NH00-14)

NH99-15 (Mar. 12, 1999) (NH00-15)

NH99-16 (Mar. 12, 1999) (NH00-16)

NH99-17 (Mar. 12, 1999) (NH00-17)

New Jersey

NJ99-01 (Mar. 12, 1999) (NJ00-01)

NJ99-02 (Mar. 12, 1999) (NJ00-02)

NJ99-03 (Mar. 12, 1999) (NJ00-03)

NJ99-04 (Mar. 12, 1999) (NJ00-04)

NJ99-05 (Mar. 12, 1999) (NJ00-05)

NJ99-06 (Mar. 12, 1999) (NJ00-06)

NJ99-07 (Mar. 12, 1999) (NJ00-07)

NJ99-08 (Mar. 12, 1999) (NJ00-08)

New York

NY99-01 (Mar. 12, 1999) (NY00-01)

NY99-02 (Mar. 12, 1999) (NY00-02)

NY99-03 (Mar. 12, 1999) (NY00-03)

NY99-04 (Mar. 12, 1999) (NY00-04)

NY99-05 (Mar. 12, 1999) (NY00-05)

NY99-06 (Mar. 12, 1999) (NY00-06)

NY99-07 (Mar. 12, 1999) (NY00-07)

NY99-08 (Mar. 12, 1999) (NY00-08)

NY99-09 (Mar. 12, 1999) (NY00-09)

NY99-10 (Mar. 12, 1999) (NY00-10)

NY99-11 (Mar. 12, 1999) (NY00-11)

NY99-12 (Mar. 12, 1999) (NY00-12)

NY99-13 (Mar. 12, 1999) (NY00-13)

NY99-14 (Mar. 12, 1999) (NY00-14)

NY99-15 (Mar. 12, 1999) (NY00-15)

NY99-16 (Mar. 12, 1999) (NY00-16)

NY99-17 (Mar. 12, 1999) (NY00-17)

NY99-18 (Mar. 12, 1999) (NY00-18)

NY99-19 (Mar. 12, 1999) (NY00-19)

NY99-20 (Mar. 12, 1999) (NY00-20)

NY99-21 (Mar. 12, 1999) (NY00-21)

NY99-22 (Mar. 12, 1999) (NY00-22)

NY99-23 (Mar. 12, 1999) (NY00-23)

NY99-24 (Mar. 12, 1999) (NY00-24)

NY99-25 (Mar. 12, 1999) (NY00-25)

NY99-26 (Mar. 12, 1999) (NY00-26)

NY99-27 (Mar. 12, 1999) (NY00-27)

NY99-28 (Mar. 12, 1999) (NY00-28)

NY99-29 (Mar. 12, 1999) (NY00-29)

NY99-30 (Mar. 12, 1999) (NY00-30)

NY99-31 (Mar. 12, 1999) (NY00-31)

NY99-32 (Mar. 12, 1999) (NY00-32)

NY99-33 (Mar. 12, 1999) (NY00-33)

NY99-34 (Mar. 12, 1999) (NY00-34)

NY99-35 (Mar. 12, 1999) (NY00-35)

NY99-36 (Mar. 12, 1999) (NY00-36)

NY99-37 (Mar. 12, 1999) (NY00-37)

NY99-38 (Mar. 12, 1999) (NY00-38)

NY99-39 (Mar. 12, 1999) (NY00-39)

NY99-40 (Mar. 12, 1999) (NY00-40)

NY99-41 (Mar. 12, 1999) (NY00-41)

NY99-42 (Mar. 12, 1999) (NY00-42)

NY99-43 (Mar. 12, 1999) (NY00-43)

NY99-44 (Mar. 12, 1999) (NY00-44)

NY99-45 (Mar. 12, 1999) (NY00-45)

NY99-46 (Mar. 12, 1999) (NY00-46)

NY99-47 (Mar. 12, 1999) (NY00-47)

NY99-48 (Mar. 12, 1999) (NY00-48)

NY99-49 (Mar. 12, 1999) (NY00-49)

NY99-50 (Mar. 12, 1999) (NY00-50)

NY99-51 (Mar. 12, 1999) (NY00-51)

NY99-52 (Mar. 12, 1999) (NY00-52)

NY99-53 (Mar. 12, 1999) (NY00-53)

NY99-54 (Mar. 12, 1999) (NY00-54)

NY99-55 (Mar. 12, 1999) (NY00-55)

NY99-56 (Mar. 12, 1999) (NY00-56)

NY99-57 (Mar. 12, 1999) (NY00-57)

NY99-58 (Mar. 12, 1999) (NY00-58)

NY99-59 (Mar. 12, 1999) (NY00-59)

NY99-60 (Mar. 12, 1999) (NY00-60)

NY99-61 (Mar. 12, 1999) (NY00-61)

NY99-62 (Mar. 12, 1999) (NY00-62)

NY99-63 (Mar. 12, 1999) (NY00-63)

NY99-64 (Mar. 12, 1999) (NY00-64)

NY99-65 (Mar. 12, 1999) (NY00-65)

NY99-66 (Mar. 12, 1999) (NY00-66)

NY99-67 (Mar. 12, 1999) (NY00-67)

NY99-68 (Mar. 12, 1999) (NY00-68)

NY99-69 (Mar. 12, 1999) (NY00-69)

NY99-70 (Mar. 12, 1999) (NY00-70)

NY99-71 (Mar. 12, 1999) (NY00-71)

NY99-72 (Mar. 12, 1999) (NY00-72)

NY99-73 (Mar. 12, 1999) (NY00-73)

NY99-74 (Mar. 12, 1999) (NY00-74)

NY99-75 (Mar. 12, 1999) (NY00-75)

NY99-76 (Mar. 12, 1999) (NY00-76)

NY99-77 (Mar. 12, 1999) (NY00-77)

Guam

GU99-01 (Mar. 12, 1999) (GU00-01)

Puerto Rico

PR99-01 (Mar. 12, 1999) (PR00-01)

PR99-02 (Mar. 12, 1999) (PR00-02)

PR99-03 (Mar. 12, 1999) (PR00-03)

Rhode Island

RI99-01 (Mar. 12, 1999) (RI00-01)

RI99-02 (Mar. 12, 1999) (RI00-02)

RI99-03 (Mar. 12, 1999) (RI00-03)

RI99-04 (Mar. 12, 1999) (RI00-04)

RI99-05 (Mar. 12, 1999) (RI00-05)

Virgin Islands

VI99-01 (Mar. 12, 1999) (VI00-01)

VI99-02 (Mar. 12, 1999) (VI00-02)

Vermont

VT99-01 (Mar. 12, 1999) (VT00-01)

VT99-02 (Mar. 12, 1999) (VT00-02)

VT99-03 (Mar. 12, 1999) (VT00-03)

VT99-04 (Mar. 12, 1999) (VT00-04)

VT99-05 (Mar. 12, 1999) (VT00-05)

VT99-06 (Mar. 12, 1999) (VT00-06)

VT99-07 (Mar. 12, 1999) (VT00-07)

VT99-08 (Mar. 12, 1999) (VT00-08)

VT99-09 (Mar. 12, 1999) (VT00-09)

VT99-10 (Mar. 12, 1999) (VT00-10)

VT99-11 (Mar. 12, 1999) (VT00-11)

VT99-12 (Mar. 12, 1999) (VT00-12)

VT99-13 (Mar. 12, 1999) (VT00-13)

VT99-14 (Mar. 12, 1999) (VT00-14)

VT99-15 (Mar. 12, 1999) (VT00-15)

VT99-16 (Mar. 12, 1999) (VT00-16)

VT99-17 (Mar. 12, 1999) (VT00-17)

VT99-18 (Mar. 12, 1999) (VT00-18)

VT99-19 (Mar. 12, 1999) (VT00-19)

VT99-20 (Mar. 12, 1999) (VT00-20)

VT99-21 (Mar. 12, 1999) (VT00-21)

VT99-22 (Mar. 12, 1999) (VT00-22)

VT99-23 (Mar. 12, 1999) (VT00-23)

VT99-24 (Mar. 12, 1999) (VT00-24)

VT99-25 (Mar. 12, 1999) (VT00-25)

VT99-26 (Mar. 12, 1999) (VT00-26)

VT99-27 (Mar. 12, 1999) (VT00-27)

VT99-28 (Mar. 12, 1999) (VT00-28)

VT99-29 (Mar. 12, 1999) (VT00-29)

VT99-30 (Mar. 12, 1999) (VT00-30)

VT99-31 (Mar. 12, 1999) (VT00-31)

VT99-32 (Mar. 12, 1999) (VT00-32)

VT99-33 (Mar. 12, 1999) (VT00-33)

VT99-34 (Mar. 12, 1999) (VT00-34)

VT99-35 (Mar. 12, 1999) (VT00-35)

VT99-36 (Mar. 12, 1999) (VT00-36)

VT99-37 (Mar. 12, 1999) (VT00-37)

VT99-38 (Mar. 12, 1999) (VT00-38)

VT99-39 (Mar. 12, 1999) (VT00-39)

VT99-40 (Mar. 12, 1999) (VT00-40)

VT99-41 (Mar. 12, 1999) (VT00-41)

Volume II

District of Columbia

DC99-01 (Mar. 12, 1999) (DC00-01)

DC99-02 (Mar. 12, 1999) (DC00-02)

DC99-03 (Mar. 12, 1999) (DC00-03)

Delaware

DE99-01 (Mar. 12, 1999) (DE00-01)

DE99-02 (Mar. 12, 1999) (DE00-02)

DE99-03 (Mar. 12, 1999) (DE00-03)

DE99-04 (Mar. 12, 1999) (DE00-04)

DE99-05 (Mar. 12, 1999) (DE00-05)

DE99-06 (Mar. 12, 1999) (DE00-06)

DE99-07 (Mar. 12, 1999) (DE00-07)

DE99-08 (Mar. 12, 1999) (DE00-08)

DE99-09 (Mar. 12, 1999) (DE00-09)

DE99-10 (Mar. 12, 1999) (DE00-10)

Maryland

MD99-01 (Mar. 12, 1999) (MD00-01)

MD99-02 (Mar. 12, 1999) (MD00-02)

MD99-03 (Mar. 12, 1999) (MD00-03)

MD99-04 (Mar. 12, 1999) (MD00-04)

MD99-05 (Mar. 12, 1999) (MD00-05)

MD99-06 (Mar. 12, 1999) (MD00-06)

MD99-07 (Mar. 12, 1999) (MD00-07)

MD99-08 (Mar. 12, 1999) (MD00-08)

MD99-09 (Mar. 12, 1999) (MD00-09)

MD99-10 (Mar. 12, 1999) (MD00-10)

MD99-11 (Mar. 12, 1999) (MD00-11)

MD99-12 (Mar. 12, 1999) (MD00-12)

MD99-13 (Mar. 12, 1999) (MD00-13)

MD99-14 (Mar. 12, 1999) (MD00-14)

MD99-15 (Mar. 12, 1999) (MD00-15)

MD99-16 (Mar. 12, 1999) (MD00-16)

MD99-17 (Mar. 12, 1999) (MD00-17)

MD99-18 (Mar. 12, 1999) (MD00-18)

MD99-19 (Mar. 12, 1999) (MD00-19)

MD99-20 (Mar. 12, 1999) (MD00-20)

MD99-21 (Mar. 12, 1999) (MD00-21)

MD99-22 (Mar. 12, 1999) (MD00-22)

MD99-23 (Mar. 12, 1999) (MD00-23)

MD99-24 (Mar. 12, 1999) (MD00-24)

MD99-25 (Mar. 12, 1999) (MD00-25)

MD99-26 (Mar. 12, 1999) (MD00-26)

MD99-27 (Mar. 12, 1999) (MD00-27)

MD99-28 (Mar. 12, 1999) (MD00-28)

MD99-29 (Mar. 12, 1999) (MD00-29)

MD99-30 (Mar. 12, 1999) (MD00-30)

MD99-31 (Mar. 12, 1999) (MD00-31)

MD99-32 (Mar. 12, 1999) (MD00-32)

MD99-33 (Mar. 12, 1999) (MD00-33)

MD99-34 (Mar. 12, 1999) (MD00-34)

MD99-35 (Mar. 12, 1999) (MD00-35)

MD99-36 (Mar. 12, 1999) (MD00-36)

MD99-37 (Mar. 12, 1999) (MD00-37)

MD99-38 (Mar. 12, 1999) (MD00-38)

MD99-39 (Mar. 12, 1999) (MD00-39)

MD99-40 (Mar. 12, 1999) (MD00-40)

MD99-41 (Mar. 12, 1999) (MD00-41)

MD99-42 (Mar. 12, 1999) (MD00-42)

MD99-43 (Mar. 12, 1999) (MD00-43)

MD99-44 (Mar. 12, 1999) (MD00-44)

MD99-45 (Mar. 12, 1999) (MD00-45)

MD99-46 (Mar. 12, 1999) (MD00-46)

MD99-47 (Mar. 12, 1999) (MD00-47)

MD99-48 (Mar. 12, 1999) (MD00-48)

MD99-49 (Mar. 12, 1999) (MD00-49)

MD99-50 (Mar. 12, 1999) (MD00-50)

MD99-51 (Mar. 12, 1999) (MD00-51)

MD99-52 (Mar. 12, 1999) (MD00-52)

MD99-53 (Mar. 12, 1999) (MD00-53)

MD99-54 (Mar. 12, 1999) (MD00-54)

MD99-55 (Mar. 12, 1999) (MD00-55)

MD99-56 (Mar. 12, 1999) (MD00-56)

MD99-57 (Mar. 12, 1999) (MD00-57)

MD99-58 (Mar. 12, 1999) (MD00-58)

MD99-59 (Mar. 12, 1999) (MD00-59)

Pennsylvania

PA99-01 (Mar. 12, 1999) (PA00-01)

PA99-02 (Mar. 12, 1999) (PA00-02)

PA99-03 (Mar. 12, 1999) (PA00-03)

PA99-04 (Mar. 12, 1999) (PA00-04)

PA99-05 (Mar. 12, 1999) (PA00-05)

PA99-06 (Mar. 12, 1999) (PA00-06)

PA99-07 (Mar. 12, 1999) (PA00-07)

PA99-08 (Mar. 12, 1999) (PA00-08)

PA99-09 (Mar. 12, 1999) (PA00-09)

PA99-10 (Mar. 12, 1999) (PA00-10)

PA99-11 (Mar. 12, 1999) (PA00-11)

PA99-12 (Mar. 12, 1999) (PA00-12)

PA99-13 (Mar. 12, 1999) (PA00-13)

PA99-14 (Mar. 12, 1999) (PA00-14)

PA99-15 (Mar. 12, 1999) (PA00-15)

PA99-16 (Mar. 12, 1999) (PA00-16)

PA99-17 (Mar. 12, 1999) (PA00-17)

PA99-18 (Mar. 12, 1999) (PA00-18)

PA99-19 (Mar. 12, 1999) (PA00-19)

PA99-20 (Mar. 12, 1999) (PA00-20)

PA99-21 (Mar. 12, 1999) (PA00-21)

PA99-22 (Mar. 12, 1999) (PA00-22)

PA99-23 (Mar. 12, 1999) (PA00-23)

PA99-24 (Mar. 12, 1999) (PA00-24)

PA99-25 (Mar. 12, 1999) (PA00-25)

PA99-26 (Mar. 12, 1999) (PA00-26)

PA99-27 (Mar. 12, 1999) (PA00-27)

PA99-28 (Mar. 12, 1999) (PA00-28)

PA99-29 (Mar. 12, 1999) (PA00-29)

PA99-30 (Mar. 12, 1999) (PA00-30)

PA99-31 (Mar. 12, 1999) (PA00-31)

PA99-32 (Mar. 12, 1999) (PA00-32)

PA99-33 (Mar. 12, 1999) (PA00-33)

PA99-34 (Mar. 12, 1999) (PA00-34)

PA99-35 (Mar. 12, 1999) (PA00-35)

PA99-36 (Mar. 12, 1999) (PA00-36)

PA99-37 (Mar. 12, 1999) (PA00-37)

PA99-38 (Mar. 12, 1999) (PA00-38)

PA99-39 (Mar. 12, 1999) (PA00-39)

PA99-40 (Mar. 12, 1999) (PA00-40)

PA99-41 (Mar. 12, 1999) (PA00-41)

PA99-42 (Mar. 12, 1999) (PA00-42)

PA99-43 (Mar. 12, 1999) (PA00-43)

PA99-44 (Mar. 12, 1999) (PA00-44)

PA99-45 (Mar. 12, 1999) (PA00-45)

PA99-46 (Mar. 12, 1999) (PA00-46)

PA99-47 (Mar. 12, 1999) (PA00-47)

PA99-48 (Mar. 12, 1999) (PA00-48)

PA99-49 (Mar. 12, 1999) (PA00-49)

PA99-50 (Mar. 12, 1999) (PA00-50)

PA99-51 (Mar. 12, 1999) (PA00-51)

PA99-52 (Mar. 12, 1999) (PA00-52)

PA99-53 (Mar. 12, 1999) (PA00-53)

PA99-54 (Mar. 12, 1999) (PA00-54)

PA99-55 (Mar. 12, 1999) (PA00-55)

PA99-56 (Mar. 12, 1999) (PA00-56)

PA99-57 (Mar. 12, 1999) (PA00-57)

PA99-58 (Mar. 12, 1999) (PA00-58)

PA99-59 (Mar. 12, 1999) (PA00-59)

PA99-60 (Mar. 12, 1999) (PA00-60)

PA99-61 (Mar. 12, 1999) (PA00-61)

PA99-62 (Mar. 12, 1999) (PA00-62)

PA99-63 (Mar. 12, 1999) (PA00-63)

PA99-64 (Mar. 12, 1999) (PA00-64)

PA99-65 (Mar. 12, 1999) (PA00-65)

PA99-66 (Mar. 12, 1999) (PA00-66)

Virginia

VA99-01 (Mar. 12, 1999) (VA00-01)

VA99-02 (Mar. 12, 1999) (VA00-02)

VA99-03 (Mar. 12, 1999) (VA00-03)

VA99-04 (Mar. 12, 1999) (VA00-04)

VA99-05 (Mar. 12, 1999) (VA00-05)

VA99-06 (Mar. 12, 1999) (VA00-06)

VA99-07 (Mar. 12, 1999) (VA00-07)

VA99-08 (Mar. 12, 1999) (VA00-08)

VA99-09 (Mar. 12, 1999) (VA00-09)

VA99-10 (Mar. 12, 1999) (VA00-10)

VA99-11 (Mar. 12, 1999) (VA00-11)

VA99-12 (Mar. 12, 1999) (VA00-12)

VA99-13 (Mar. 12, 1999) (VA00-13)

VA99-14 (Mar. 12, 1999) (VA00-14)

VA99-15 (Mar. 12, 1999) (VA00-15)

VA99-16 (Mar. 12, 1999) (VA00-16)

VA99-17 (Mar. 12, 1999) (VA00-17)

VA99-18 (Mar. 12, 1999) (VA00-18)

VA99-19 (Mar. 12, 1999) (VA00-19)

VA99-20 (Mar. 12, 1999) (VA00-20)

VA99-21 (Mar. 12, 1999) (VA00-21)

VA99-22 (Mar. 12, 1999) (VA00-22)

VA99-23 (Mar. 12, 1999) (VA00-23)

VA99-24 (Mar. 12, 1999) (VA00-24)

VA99-25 (Mar. 12, 1999) (VA00-25)

VA99-26 (Mar. 12, 1999) (VA00-26)

VA99-27 (Mar. 12, 1999) (VA00-27)

VA99-28 (Mar. 12, 1999) (VA00-28)

VA99-29 (Mar. 12, 1999) (VA00-29)

VA99-30 (Mar. 12, 1999) (VA00-30)

VA99-31 (Mar. 12, 1999) (VA00-31)

VA99-32 (Mar. 12, 1999) (VA00-32)

VA99-33 (Mar. 12, 1999) (VA00-33)

VA99-34 (Mar. 12, 1999) (VA00-34)

VA99-35 (Mar. 12, 1999) (VA00-35)

VA99-36 (Mar. 12, 1999) (VA00-36)

VA99-37 (Mar. 12, 1999) (VA00-37)

VA99-38 (Mar. 12, 1999) (VA00-38)

VA99-39 (Mar. 12, 1999) (VA00-39)

VA99-40 (Mar. 12, 1999) (VA00-40)

VA99-41 (Mar. 12, 1999) (VA00-41)

VA99-42 (Mar. 12, 1999) (VA00-42)

VA99-43 (Mar. 12, 1999) (VA00-43)

VA99-44 (Mar. 12, 1999) (VA00-44)

VA99-45 (Mar. 12, 1999) (VA00-45)

VA99-46 (Mar. 12, 1999) (VA00-46)

VA99-47 (Mar. 12, 1999) (VA00-47)

VA99-48 (Mar. 12, 1999) (VA00-48)

VA99-49 (Mar. 12, 1999) (VA00-49)

VA99-50 (Mar. 12, 1999) (VA00-50)

VA99-51 (Mar. 12, 1999) (VA00-51)

VA99-52 (Mar. 12, 1999) (VA00-52)

VA99-53 (Mar. 12, 1999) (VA00-53)

VA99-54 (Mar. 12, 1999) (VA00-54)

VA99-55 (Mar. 12, 1999) (VA00-55)

VA99-56 (Mar. 12, 1999) (VA00-56)

VA99-57 (Mar. 12, 1999) (VA00-57)

VA99-58 (Mar. 12, 1999) (VA00-58)

VA99-59 (Mar. 12, 1999) (VA00-59)

VA99-60 (Mar. 12, 1999) (VA00-60)

VA99-61 (Mar. 12, 1999) (VA00-61)

VA99-62 (Mar. 12, 1999) (VA00-62)

VA99-63 (Mar. 12, 1999) (VA00-63)

VA99-64 (Mar. 12, 1999) (VA00-64)

VA99-65 (Mar. 12, 1999) (VA00-65)

VA99-66 (Mar. 12, 1999) (VA00-66)

VA99-67 (Mar. 12, 1999) (VA00-67)

VA99-68 (Mar. 12, 1999) (VA00-68)

VA99-69 (Mar. 12, 1999) (VA00-69)

VA99-70 (Mar. 12, 1999) (VA00-70)

VA99-71 (Mar. 12, 1999) (VA00-71)

VA99-72 (Mar. 12, 1999) (VA00-72)

VA99-73 (Mar. 12, 1999) (VA00-73)

VA99-74 (Mar. 12, 1999) (VA00-74)

VA99-75 (Mar. 12, 1999) (VA00-75)

VA99-76 (Mar. 12, 1999) (VA00-76)

VA99-77 (Mar. 12, 1999) (VA00-77)

VA99-78 (Mar. 12, 1999) (VA00-78)

VA99-79 (Mar. 12, 1999) (VA00-79)

VA99-80 (Mar. 12, 1999) (VA00-80)

VA99-81 (Mar. 12, 1999) (VA00-81)

VA99-82 (Mar. 12, 1999) (VA00-82)

VA99-83 (Mar. 12, 1999) (VA00-83)

VA99-84 (Mar. 12, 1999) (VA00-84)

VA99-85 (Mar. 12, 1999) (VA00-85)

VA99-86 (Mar. 12, 1999) (VA00-86)

VA99-87 (Mar. 12, 1999) (VA00-87)

VA99-88 (Mar. 12, 1999) (VA00-88)

VA99-89 (Mar. 12, 1999) (VA00-89)

VA99-90 (Mar. 12, 1999) (VA00-90)

VA99-91 (Mar. 12, 1999) (VA00-91)

VA99-92 (Mar. 12, 1999) (VA00-92)

VA99-93 (Mar. 12, 1999) (VA00-93)

VA99-94 (Mar. 12, 1999) (VA00-94)

VA99-95 (Mar. 12, 1999) (VA00-95)

VA99-96 (Mar. 12, 1999) (VA00-96)

VA99-97 (Mar. 12, 1999) (VA00-97)

VA99-98 (Mar. 12, 1999) (VA00-98)

VA99-99 (Mar. 12, 1999) (VA00-99)

VA99-100 (Mar. 12, 1999) (VA00-100)

VA99-101 (Mar. 12, 1999) (VA00-101)

VA99-102 (Mar. 12, 1999) (VA00-102)

VA99-103 (Mar. 12, 1999) (VA00-103)

West Virginia

WV99-01 (Mar. 12, 1999) (WV00-01)

WV99-02 (Mar. 12, 1999) (WV00-02)

WV99-03 (Mar. 12, 1999) (WV00-03)

WV99-04 (Mar. 12, 1999) (WV00-04)

WV99-05 (Mar. 12, 1999) (WV00-05)

WV99-06 (Mar. 12, 1999) (WV00-06)

WV99-07 (Mar. 12, 1999) (WV00-07)

WV99-08 (Mar. 12, 1999) (WV00-08)

WV99-09 (Mar. 12, 1999) (WV00-09)

WV99-10 (Mar. 12, 1999) (WV00-10)

WV99-11 (Mar. 12, 1999) (WV00-11)

WV99-12 (Mar. 12, 1999) (WV00-12)

Volume III

Alabama

AL99-01 (Mar. 12, 1999) (AL00-01)

AL99-02 (Mar. 12, 1999) (AL00-02)

AL99-03 (Mar. 12, 1999) (AL00-03)

AL99-04 (Mar. 12, 1999) (AL00-04)

AL99-05 (Mar. 12, 1999) (AL00-05)

AL99-06 (Mar. 12, 1999) (AL00-06)

AL99-07 (Mar. 12, 1999) (AL00-07)

AL99-08 (Mar. 12, 1999) (AL00-08)

AL99-09 (Mar. 12, 1999) (AL00-09)

AL99-10 (Mar. 12, 1999) (AL00-10)

AL99-11 (Mar. 12, 1999) (AL00-11)

AL99-12 (Mar. 12, 1999) (AL00-12)

AL99-13 (Mar. 12, 1999) (AL00-13)

AL99-14 (Mar. 12, 1999) (AL00-14)

AL99-15 (Mar. 12, 1999) (AL00-15)

AL99-16 (Mar. 12, 1999) (AL00-16)

AL99-17 (Mar. 12, 1999) (AL00-17)

AL99-18 (Mar. 12, 1999) (AL00-18)

AL99-19 (Mar. 12, 1999) (AL00-19)

AL99-20 (Mar. 12, 1999) (AL00-20)

AL99-21 (Mar. 12, 1999) (AL00-21)

AL99-22 (Mar. 12, 1999) (AL00-22)

AL99-23 (Mar. 12, 1999) (AL00-23)

AL99-24 (Mar. 12, 1999) (AL00-24)

AL99-25 (Mar. 12, 1999) (AL00-25)

AL99-26 (Mar. 12, 1999) (AL00-26)

AL99-27 (Mar. 12, 1999) (AL00-28)

AL99-29 (Mar. 12, 1999) (AL00-29)

AL99-30 (Mar. 12, 1999) (AL00-30)

AL99-31 (Mar. 12, 1999) (AL00-31)

AL99-32 (Mar. 12, 1999) (AL00-32)

AL99-33 (Mar. 12, 1999) (AL00-33)

AL99-34 (Mar. 12, 1999) (AL00-34)

AL99-35 (Mar. 12, 1999) (AL00-35)

AL99-36 (Mar. 12, 1999) (AL00-36)

AL99-37 (Mar. 12, 1999) (AL00-37)

AL99-38 (Mar. 12, 1999) (AL00-38)

AL99-39 (Mar. 12, 1999) (AL00-39)

AL99-40 (Mar. 12, 1999) (AL00-40)

AL99-41 (Mar. 12, 1999) (AL00-41)

AL99-42 (Mar. 12, 1999) (AL00-42)

AL99-43 (Mar. 12, 1999) (AL00-43)

AL99-44 (Mar. 12, 1999) (AL00-44)

AL99-45 (Mar. 12, 1999) (AL00-45)

AL99-46 (Mar. 12, 1999) (AL00-46)

AL99-47 (Mar. 12, 1999) (AL00-47)

AL99-48 (Mar. 12, 1999) (AL00-48)

AL99-49 (Mar. 12, 1999) (AL00-49)

AL99-50 (Mar. 12, 1999) (AL00-50)

AL99-51 (Mar. 12, 1999) (AL00-51)

AL99-52 (Mar. 12, 1999) (AL00-52)

AL99-53 (Mar. 12, 1999) (AL00-53)

AL99-54 (Mar. 12, 1999) (AL00-54)

AL99-55 (Mar. 12, 1999) (AL00-55)

Florida

FL99-01 (Mar. 12, 1999) (FL00-01)

FL99-02 (Mar. 12, 1999) (FL00-02)

FL99-03 (Mar. 12, 1999) (FL00-03)

FL99-04 (Mar. 12, 1999) (FL00-04)

FL99-05 (Mar. 12, 1999) (FL00-05)

FL99-06 (Mar. 12, 1999) (FL00-06)

FL99-07 (Mar. 12, 1999) (FL00-07)

FL99-08 (Mar. 12, 1999) (FL00-08)

FL99-09 (Mar. 12, 1999) (FL00-09)

FL99-10 (Mar. 12, 1999) (FL00-10)

FL99-11 (Mar. 12, 1999) (FL00-11)

FL99-12 (Mar. 12, 1999) (FL00-12)

FL99-13 (Mar. 12, 1999) (FL00-13)

FL99-14 (Mar. 12, 1999) (FL00-14)

FL99-15 (Mar. 12, 1999) (FL00-15)

FL99-16 (Mar. 12, 1999) (FL00-16)

FL99-17 (Mar. 12, 1999) (FL00-17)

FL99-18 (Mar. 12, 1999) (FL00-18)

FL99-19 (Mar. 12, 1999) (FL00-19)

FL99-20 (Mar. 12, 1999) (FL00-20)

FL99-21 (Mar. 12, 1999) (FL00-21)

FL99-22 (Mar. 12, 1999) (FL00-22)

FL99-23 (Mar. 12, 1999) (FL00-23)

FL99-24 (Mar. 12, 1999) (FL00-24)

FL99-25 (Mar. 12, 1999) (FL00-25)

FL99-26 (Mar. 12, 1999) (FL00-26)

FL99-27 (Mar. 12, 1999) (FL00-27)

FL99-28 (Mar. 12, 1999) (FL00-28)

FL99-29 (Mar. 12, 1999) (FL00-29)

FL99-30 (Mar. 12, 1999) (FL00-30)

FL99-31 (Mar. 12, 1999) (FL00-31)

FL99-32 (Mar. 12, 1999) (FL00-32)

FL99-33 (Mar. 12, 1999) (FL00-33)

FL99-34 (Mar. 12, 1999) (FL00-34)

FL99-35 (Mar. 12, 1999) (FL00-35)

FL99-36 (Mar. 12, 1999) (FL00-36)

FL99-37 (Mar. 12, 1999) (FL00-37)

FL99-38 (Mar. 12, 1999) (FL00-38)

FL99-39 (Mar. 12, 1999) (FL00-39)

FL99-40 (Mar. 12, 1999) (FL00-40)

FL99-41 (Mar. 12, 1999) (FL00-41)

FL99-42 (Mar. 12, 1999) (FL00-42)

FL99-43 (Mar. 12, 1999) (FL00-43)

FL99-44 (Mar. 12, 1999) (FL00-44)

FL99-45 (Mar. 12, 1999) (FL00-45)

FL99-46 (Mar. 12, 1999) (FL00-46)

FL99-47 (Mar. 12, 1999) (FL00-47)

FL99-48 (Mar. 12, 1999) (FL00-48)

FL99-49 (Mar. 12, 1999) (FL00-49)

FL99-50 (Mar. 12, 1999) (FL00-50)

FL99-51 (Mar. 12, 1999) (FL00-51)

FL99-52 (Mar. 12, 1999) (FL00-52)

FL99-53 (Mar. 12, 1999) (FL00-53)

FL99-54 (Mar. 12, 1999) (FL00-54)

FL99-55 (Mar. 12, 1999) (FL00-55)

FL99-56 (Mar. 12, 1999) (FL00-56)

FL99-57 (Mar. 12, 1999) (FL00-57)

FL99-58 (Mar. 12, 1999) (FL00-58)

FL99-59 (Mar. 12, 1999) (FL00-59)

FL99-60 (Mar. 12, 1999) (FL00-60)

FL99-61 (Mar. 12, 1999) (FL00-61)

FL99-62 (Mar. 12, 1999) (FL00-62)

FL99-63 (Mar. 12, 1999) (FL00-63)

FL99-64 (Mar. 12, 1999) (FL00-64)

FL99-65 (Mar. 12, 1999) (FL00-65)

FL99-66 (Mar. 12, 1999) (FL00-66)

FL99-67 (Mar. 12, 1999) (FL00-67)

FL99-68 (Mar. 12, 1999) (FL00-68)

FL99-69 (Mar. 12, 1999) (FL00-69)

FL99-70 (Mar. 12, 1999) (FL00-70)

FL99-71 (Mar. 12, 1999) (FL00-71)

FL99-72 (Mar. 12, 1999) (FL00-72)

FL99-73 (Mar. 12, 1999) (FL00-73)

FL99-74 (Mar. 12, 1999) (FL00-74)

FL99-75 (Mar. 12, 1999) (FL00-75)

FL99-76 (Mar. 12, 1999) (FL00-76)

FL99-77 (Mar. 12, 1999) (FL00-77)

FL99-78 (Mar. 12, 1999) (FL00-78)

FL99-79 (Mar. 12, 1999) (FL00-79)

FL99-80 (Mar. 12, 1999) (FL00-80)

FL99-81 (Mar. 12, 1999) (FL00-81)

FL99-82 (Mar. 12, 1999) (FL00-82)

FL99-83 (Mar. 12, 1999) (FL00-83)

FL99-84 (Mar. 12, 1999) (FL00-84)

FL99-85 (Mar. 12, 1999) (FL00-85)

FL99-86 (Mar. 12, 1999) (FL00-86)

FL99-87 (Mar. 12, 1999) (FL00-87)

FL99-88 (Mar. 12, 1999) (FL00-88)

FL99-89 (Mar. 12, 1999) (FL00-89)

FL99-90 (Mar. 12, 1999) (FL00-90)

FL99-91 (Mar. 12, 1999) (FL00-91)

FL99-92 (Mar. 12, 1999) (FL00-92)

FL99-93 (Mar. 12, 1999) (FL00-93)

FL99-94 (Mar. 12, 1999) (FL00-94)

FL99-95 (Mar. 12, 1999) (FL00-95)

FL99-96 (Mar. 12, 1999) (FL00-96)

FL99-97 (Mar. 12, 1999) (FL00-97)

FL99-98 (Mar. 12, 1999) (FL00-98)

FL99-99 (Mar. 12, 1999) (FL00-99)

FL99-100 (Mar. 12, 1999) (FL00-100)

FL99-101 (Mar. 12, 1999) (FL00-101)

FL99-102 (Mar. 12, 1999) (FL00-102)

Georgia

GA99-01 (Mar. 12, 1999) (GA00-01)

GA99-02 (Mar. 12, 1999) (GA00-02)

GA99-03 (Mar. 12, 1999) (GA00-03)

GA99-04 (Mar. 12, 1999) (GA00-04)

GA99-05 (Mar. 12, 1999) (GA00-05)

GA99-06 (Mar. 12, 1999) (GA00-06)

GA99-07 (Mar. 12, 1999) (GA00-07)

GA99-08 (Mar. 12, 1999) (GA00-08)

GA99-09 (Mar. 12, 1999) (GA00-09)

GA99-10 (Mar. 12, 1999) (GA00-10)

GA99-11 (Mar. 12, 1999) (GA00-11)

GA99-12 (Mar. 12, 1999) (GA00-12)

GA99-13 (Mar. 12, 1999) (GA00-13)

GA99-14 (Mar. 12, 1999) (GA00-14)

GA99-15 (Mar. 12, 1999) (GA00-15)

GA99-16 (Mar. 12, 1999) (GA00-16)

GA99-17 (Mar. 12, 1999) (GA00-17)

GA99-18 (Mar. 12, 1999) (GA00-18)

GA99-19 (Mar. 12, 1999) (GA00-19)

GA99-20 (Mar. 12, 1999) (GA00-20)

GA99-21 (Mar. 12, 1999) (GA00-21)

GA99-22 (Mar. 12, 1999) (GA00-22)

GA99-23 (Mar. 12, 1999) (GA00-23)

GA99-24 (Mar. 12, 1999) (GA00-24)

GA99-25 (Mar. 12, 1999) (GA00-25)

GA99-26 (Mar. 12, 1999) (GA00-26)

GA99-27 (Mar. 12, 1999) (GA00-27)

GA99-28 (Mar. 12, 1999) (GA00-28)

GA99-29 (Mar. 12, 1999) (GA00-29)

GA99-30 (Mar. 12, 1999) (GA00-30)

GA99-31 (Mar. 12, 1999) (GA00-31)

GA99-32 (Mar. 12, 1999) (GA00-32)

GA99-33 (Mar. 12, 1999) (GA00-33)

GA99-34 (Mar. 12, 1999) (GA00-34)

GA99-35 (Mar. 12, 1999) (GA00-35)

GA99-36 (Mar. 12, 1999) (GA00-36)

GA99-37 (Mar. 12, 1999) (GA00-37)

GA99-38 (Mar. 12, 1999) (GA00-38)

GA99-39 (Mar. 12, 1999) (GA00-39)

GA99-40 (Mar. 12, 1999) (GA00-40)

GA99-41 (Mar. 12, 1999) (GA00-41)

GA99-42 (Mar. 12, 1999) (GA00-42)

GA99-43 (Mar. 12, 1999) (GA00-43)

GA99-44 (Mar. 12, 1999) (GA00-44)

GA99-45 (Mar. 12, 1999) (GA00-45)

GA99-46 (Mar. 12, 1999) (GA00-46)

GA99-47 (Mar. 12, 1999) (GA00-47)

GA99-48 (Mar. 12, 1999) (GA00-48)

GA99-49 (Mar. 12, 1999) (GA00-49)

GA99-50 (Mar. 12, 1999) (GA00-50)

GA99-51 (Mar. 12, 1999) (GA00-51)

GA99-52 (Mar. 12, 1999) (GA00-52)

GA99-53 (Mar. 12, 1999) (GA00-53)

GA99-54 (Mar. 12, 1999) (GA00-54)

GA99-55 (Mar. 12, 1999) (GA00-55)

GA99-56 (Mar. 12, 1999) (GA00-56)

GA99-57 (Mar. 12, 1999) (GA00-57)

GA99-58 (Mar. 12, 1999) (GA00-58)

GA99-59 (Mar. 12, 1999) (GA00-59)

GA99-60 (Mar. 12, 1999) (GA00-60)

GA99-61 (Mar. 12, 1999) (GA00-61)

GA99-62 (Mar. 12, 1999) (GA00-62)

GA99-63 (Mar. 12, 1999) (GA00-63)

GA99-64 (Mar. 12, 1999) (GA00-64)

GA99-65 (Mar. 12, 1999) (GA00-65)

GA99-66 (Mar. 12, 1999) (GA00-66)

GA99-67 (Mar. 12, 1999) (GA00-67)

GA99-68 (Mar. 12, 1999) (GA00-68)

GA99-69 (Mar. 12, 1999) (GA00-69)

GA99-70 (Mar. 12, 1999) (GA00-70)

GA99-71 (Mar. 12, 1999) (GA00-71)

GA99-72 (Mar. 12, 1999) (GA00-72)

GA99-73 (Mar. 12, 1999) (GA00-73)

GA99-74 (Mar. 12, 1999) (GA00-74)

GA99-75 (Mar. 12, 1999) (GA00-75)

GA99-76 (Mar. 12, 1999) (GA00-76)

GA99-77 (Mar. 12, 1999) (GA00-77)

GA99-78 (Mar. 12, 1999) (GA00-78)

GA99-79 (Mar. 12, 1999) (GA00-79)

GA99-80 (Mar. 12, 1999) (GA00-80)

GA99-81 (Mar. 12, 1999) (GA00-81)

GA99-82 (Mar. 12, 1999) (GA00-82)

GA99-83 (Mar. 12, 1999) (GA00-83)

GA99-84 (Mar. 12, 1999) (GA00-84)

GA99-85 (Mar. 12, 1999) (GA00-85)

GA99-86 (Mar. 12, 1999) (GA00-86)

GA99-87 (Mar. 12, 1999) (GA00-87)

GA99-88 (Mar. 12, 1999) (GA00-88)

GA99-89 (Mar. 12, 1999) (GA00-89)

GA99-90 (Mar. 12, 1999) (GA00-90)

GA99-91 (Mar. 12, 1999) (GA00-91)

GA99-92 (Mar. 12, 1999) (GA00-92)

GA99-93 (Mar. 12, 1999) (GA00-93)

GA99-94 (Mar. 12, 1999) (GA00-94)

Kentucky

KY99-01 (Mar. 12, 1999) (KY00-01)

KY99-02 (Mar. 12, 1999) (KY00-02)

KY99-03 (Mar. 12, 1999) (KY00-03)

KY99-04 (Mar. 12, 1999) (KY00-04)

KY99-05 (Mar. 12, 1999) (KY00-05)

KY99-06 (Mar. 12, 1999) (KY00-06)

KY99-07 (Mar. 12, 1999) (KY00-07)

KY99-08 (Mar. 12, 1999) (KY00-08)

KY99-09 (Mar. 12, 1999) (KY00-09)

KY99-10 (Mar. 12, 1999) (KY00-10)

KY99-11 (Mar. 12, 1999) (KY00-11)

KY99-12 (Mar. 12, 1999) (KY00-12)

KY99-13 (Mar. 12, 1999) (KY00-13)

KY99-14 (Mar. 12, 1999) (KY00-14)

KY99-15 (Mar. 12, 1999) (KY00-15)

KY99-16 (Mar. 12, 1999) (KY00-16)

KY99-17 (Mar. 12, 1999) (KY00-17)

KY99-18 (Mar. 12, 1999) (KY00-18)

KY99-19 (Mar. 12, 1999) (KY00-19)

KY99-20 (Mar. 12, 1999) (KY00-20)

KY99-21 (Mar. 12, 1999) (KY00-21)

KY99-22 (Mar. 12, 1999) (KY00-22)

KY99-23 (Mar. 12, 1999) (KY00-23)

KY99-24 (Mar. 12, 1999) (KY00-24)

KY99-25 (Mar. 12, 1999) (KY00-25)

KY99-26 (Mar. 12, 1999) (KY00-26)

KY99-27 (Mar. 12, 1999) (KY00-27)

KY99-28 (Mar. 12, 1999) (KY00-28)

KY99-29 (Mar. 12, 1999) (KY00-29)

KY99-30 (Mar. 12, 1999) (KY00-30)

KY99-31 (Mar. 12, 1999) (KY00-31)

KY99-32 (Mar. 12, 1999) (KY00-32)

KY99-33 (Mar. 12, 1999) (KY00-33)

KY99-34 (Mar. 12, 1999) (KY00-34)

KY99-35 (Mar. 12, 1999) (KY00-35)

KY99-36 (Mar. 12, 1999) (KY00-36)

KY99-37 (Mar. 12, 1999) (KY00-37)

KY99-38 (Mar. 12, 1999) (KY00-38)

KY99-39 (Mar. 12, 1999) (KY00-39)

KY99-40 (Mar. 12, 1999) (KY00-40)

KY99-41 (Mar. 12, 1999) (KY00-41)

KY99-42 (Mar. 12, 1999) (KY00-42)

KY99-43 (Mar. 12, 1999) (KY00-43)

KY99-44 (Mar. 12, 1999) (KY00-44)

KY99-45 (Mar. 12, 1999) (KY00-45)

KY99-46 (Mar. 12, 1999) (KY00-46)

KY99-47 (Mar. 12, 1999) (KY00-47)

KY99-48 (Mar. 12, 1999) (KY00-48)

KY99-49 (Mar. 12, 1999) (KY00-49)

KY99-50 (Mar. 12, 1999) (KY00-50)

KY99-51 (Mar. 12, 1999) (KY00-51)

KY99-52 (Mar. 12, 1999) (KY00-52)

KY99-53 (Mar. 12, 1999) (KY00-53)

Mississippi

MS99-01 (Mar. 12, 1999) (MS00-01)

MS99-02 (Mar. 12, 1999) (MS00-02)

MS99-03 (Mar. 12, 1999) (MS00-03)

MS99-04 (Mar. 12, 1999) (MS00-04)

MS99-05 (Mar. 12, 1999) (MS00-05)

MS99-06 (Mar. 12, 1999) (MS00-06)

MS99-07 (Mar. 12, 1999) (MS00-07)

MS99-08 (Mar. 12, 1999) (MS00-08)

MS99-09 (Mar. 12, 1999) (MS00-09)

MS99-10 (Mar. 12, 1999) (MS00-10)

MS99-11 (Mar. 12, 1999) (MS00-11)

MS99-12 (Mar. 12, 1999) (MS00-12)

MS99-13 (Mar. 12, 1999) (MS00-13)

MS99-14 (Mar. 12, 1999) (MS00-14)

MS99-15 (Mar. 12, 1999) (MS00-15)

MS99-16 (Mar. 12, 1999) (MS00-16)

MS99-17 (Mar. 12, 1999) (MS00-17)

MS99-18 (Mar. 12, 1999) (MS00-18)

MS99-19 (Mar. 12, 1999) (MS00-19)

MS99-20 (Mar. 12, 1999) (MS00-20)

MS99-21 (Mar. 12, 1999) (MS00-21)

MS99-22 (Mar. 12, 1999) (MS00-22)

MS99-23 (Mar. 12, 1999) (MS00-23)

MS99-24 (Mar. 12, 1999) (MS00-24)

MS99-25 (Mar. 12, 1999) (MS00-25)

MS99-26 (Mar. 12, 1999) (MS00-26)

MS99-27 (Mar. 12, 1999) (MS00-27)

MS99-28 (Mar. 12, 1999) (MS00-28)

MS99-29 (Mar. 12, 1999) (MS00-29)

MS99-30 (Mar. 12, 1999) (MS00-30)

MS99-31 (Mar. 12, 1999) (MS00-31)

MS99-32 (Mar. 12, 1999) (MS00-32)

MS99-33 (Mar. 12, 1999) (MS00-33)

MS99-34 (Mar. 12, 1999) (MS00-34)

MS99-35 (Mar. 12, 1999) (MS00-35)

MS99-36 (Mar. 12, 1999) (MS00-36)

MS99-37 (Mar. 12, 1999) (MS00-37)

MS99-38 (Mar. 12, 1999) (MS00-38)

MS99-39 (Mar. 12, 1999) (MS00-39)

MS99-40 (Mar. 12, 1999) (MS00-40)

MS99-41 (Mar. 12, 1999) (MS00-41)

MS99-42 (Mar. 12, 1999) (MS00-42)

MS99-43 (Mar. 12, 1999) (MS00-43)

MS99-44 (Mar. 12, 1999) (MS00-44)

MS99-45 (Mar. 12, 1999) (MS00-45)

MS99-46 (Mar. 12, 1999) (MS00-46)

MS99-47 (Mar. 12, 1999) (MS00-47)

MS99-48 (Mar. 12, 1999) (MS00-48)

MS99-49 (Mar. 12, 1999) (MS00-49)

MS99-50 (Mar. 12, 1999) (MS00-50)

MS99-51 (Mar. 12, 1999) (MS00-51)

MS99-52 (Mar. 12, 1999) (MS00-52)

MS99-53 (Mar. 12, 1999) (MS00-53)

MS99-54 (Mar. 12, 1999) (MS00-54)

MS99-55 (Mar. 12, 1999) (MS00-55)

MS99-56 (Mar. 12, 1999) (MS00-56)

MS99-57 (Mar. 12, 1999) (MS00-57)

MS99-58 (Mar. 12, 1999) (MS00-58)

MS99-59 (Mar. 12, 1999) (MS00-59)

MS99-60 (Mar. 12, 1999) (MS00-60)

MS99-61 (Mar. 12, 1999) (MS00-61)

MS99-62 (Mar. 12, 1999) (MS00-62)

North Carolina

NC99-01 (Mar. 12, 1999) (NC00-01)

NC99-02 (Mar. 12, 1999) (NC00-02)

NC99-03 (Mar. 12, 1999) (NC00-03)

NC99-04 (Mar. 12, 1999) (NC00-04)

NC99-05 (Mar. 12, 1999) (NC00-05)

NC99-06 (Mar. 12, 1999) (NC00-06)

NC99-07 (Mar. 12, 1999) (NC00-07)

NC99-08 (Mar. 12, 1999) (NC00-08)

NC99-09 (Mar. 12, 1999) (NC00-09)

NC99-10 (Mar. 12, 1999) (NC00-10)

NC99-11 (Mar. 12, 1999) (NC00-11)

NC99-12 (Mar. 12, 1999) (NC00-12)

NC99-13 (Mar. 12, 1999) (NC00-13)

NC99-14 (Mar. 12, 1999) (NC00-14)

NC99-15 (Mar. 12, 1999) (NC00-15)

NC99-16 (Mar. 12, 1999) (NC00-16)

NC99-17 (Mar. 12, 1999) (NC00-17)

NC99-18 (Mar. 12, 1999) (NC00-18)

NC99-19 (Mar. 12, 1999) (NC00-19)

NC99-20 (Mar. 12, 1999) (NC00-20)

NC99-21 (Mar. 12, 1999) (NC00-21)

NC99-22 (Mar. 12, 1999) (NC00-22)

NC99-23 (Mar. 12, 1999) (NC00-23)

NC99-24 (Mar. 12, 1999) (NC00-24)

NC99-25 (Mar. 12, 1999) (NC00-25)

NC99-26 (Mar. 12, 1999) (NC00-26)

NC99-27 (Mar. 12, 1999) (NC00-27)

NC99-28 (Mar. 12, 1999) (NC00-28)

NC99-29 (Mar. 12, 1999) (NC00-29)

NC99-30 (Mar. 12, 1999) (NC00-30)

NC99-31 (Mar. 12, 1999) (NC00-31)

NC99-32 (Mar. 12, 1999) (NC00-32)

NC99-33 (Mar. 12, 1999) (NC00-33)

NC99-34 (Mar. 12, 1999) (NC00-34)

NC99-35 (Mar. 12, 1999) (NC00-35)

NC99-36 (Mar. 12, 1999) (NC00-36)

NC99-37 (Mar. 12, 1999) (NC00-37)

NC99-38 (Mar. 12, 1999) (NC00-38)

NC99-39 (Mar. 12, 1999) (NC00-39)

NC99-40 (Mar. 12, 1999) (NC00-40)

NC99-41 (Mar. 12, 1999) (NC00-41)

NC99-42 (Mar. 12, 1999) (NC00-42)

NC99-43 (Mar. 12, 1999) (NC00-43)

NC99-44 (Mar. 12, 1999) (NC00-44)

NC99-45 (Mar. 12, 1999) (NC00-45)

NC99-46 (Mar. 12, 1999) (NC00-46)

NC99-47 (Mar. 12, 1999) (NC00-47)

NC99-48 (Mar. 12, 1999) (NC00-48)

NC99-49 (Mar. 12, 1999) (NC00-49)

NC99-50 (Mar. 12, 1999) (NC00-50)

NC99-51 (Mar. 12, 1999) (NC00-51)

NC99-52 (Mar. 12, 1999) (NC00-52)

NC99-53 (Mar. 12, 1999) (NC00-53)

NC99-54 (Mar. 12, 1999) (NC00-54)

South Carolina

SC99-01 (Mar. 12, 1999) (SC00-01)

SC99-02 (Mar. 12, 1999) (SC00-02)

SC99-03 (Mar. 12, 1999) (SC00-03)

SC99-04 (Mar. 12, 1999) (SC00-04)

SC99-05 (Mar. 12, 1999) (SC00-05)

SC99-06 (Mar. 12, 1999) (SC00-06)

SC99-07 (Mar. 12, 1999) (SC00-07)

SC99-08 (Mar. 12, 1999) (SC00-08)

SC99-09 (Mar. 12, 1999) (SC00-09)

SC99-10 (Mar. 12, 1999) (SC00-10)

SC99-11 (Mar. 12, 1999) (SC00-11)

SC99-12 (Mar. 12, 1999) (SC00-12)

SC99-13 (Mar. 12, 1999) (SC00-13)

SC99-14 (Mar. 12, 1999) (SC00-14)

SC99-15 (Mar. 12, 1999) (SC00-15)

SC99-16 (Mar. 12, 1999) (SC00-16)

SC99-17 (Mar. 12, 1999) (SC00-17)

SC99-18 (Mar. 12, 1999) (SC00-18)

SC99-19 (Mar. 12, 1999) (SC00-19)

SC99-20 (Mar. 12, 1999) (SC00-20)

SC99-21 (Mar. 12, 1999) (SC00-21)

SC99-22 (Mar. 12, 1999) (SC00-22)

SC99-23 (Mar. 12, 1999) (SC00-23)

SC99-24 (Mar. 12, 1999) (SC00-24)

SC99-25 (Mar. 12, 1999) (SC00-25)

SC99-26 (Mar. 12, 1999) (SC00-26)

SC99-27 (Mar. 12, 1999) (SC00-27)

SC99-28 (Mar. 12, 1999) (SC00-28)

SC99-29 (Mar. 12, 1999) (SC00-29)

SC99-30 (Mar. 12, 1999) (SC00-30)

SC99-31 (Mar. 12, 1999) (SC00-31)

SC99-32 (Mar. 12, 1999) (SC00-32)

SC99-33 (Mar. 12, 1999) (SC00-33)

SC99-34 (Mar. 12, 1999) (SC00-34)

SC99-35 (Mar. 12, 1999) (SC00-35)

SC99-36 (Mar. 12, 1999) (SC00-36)

SC99-37 (Oct. 15, 1999) (SC00-37)

Tennessee

TN99-01 (Mar. 12, 1999) (TN00-01)

TN99-02 (Mar. 12, 1999) (TN00-02)

TN99-03 (Mar. 12, 1999) (TN00-03)

TN99-04 (Mar. 12, 1999) (TN00-04)

TN99-05 (Mar. 12, 1999) (TN00-05)

TN99-06 (Mar. 12, 1999) (TN00-06)

TN99-07 (Mar. 12, 1999) (TN00-07)

TN99-08 (Mar. 12, 1999) (TN00-08)

TN99-09 (Mar. 12, 1999) (TN00-09)

TN99-10 (Mar. 12, 1999) (TN00-10)

TN99-11 (Mar. 12, 1999) (TN00-11)

TN99-12 (Mar. 12, 1999) (TN00-12)

TN99-13 (Mar. 12, 1999) (TN00-13)

TN99-14 (Mar. 12, 1999) (TN00-14)

TN99-15 (Mar. 12, 1999) (TN00-15)

TN99-16 (Mar. 12, 1999) (TN00-16)

TN99-17 (Mar. 12, 1999) (TN00-17)

TN99-18 (Mar. 12, 1999) (TN00-18)

TN99-19 (Mar. 12, 1999) (TN00-19)

TN99-20 (Mar. 12, 1999) (TN00-20)

TN99-21 (Mar. 12, 1999) (TN00-21)

TN99-22 (Mar. 12, 1999) (TN00-22)

TN99-23 (Mar. 12, 1999) (TN00-23)

TN99-24 (Mar. 12, 1999) (TN00-24)

TN99-25 (Mar. 12, 1999) (TN00-25)

TN99-26 (Mar. 12, 1999) (TN00-26)

TN99-27 (Mar. 12, 1999) (TN00-27)

TN99-28 (Mar. 12, 1999) (TN00-28)

TN99-29 (Mar. 12, 1999) (TN00-29)

TN99-30 (Mar. 12, 1999) (TN00-30)

TN99-31 (Mar. 12, 1999) (TN00-31)

TN99-32 (Mar. 12, 1999) (TN00-32)

TN99-33 (Mar. 12, 1999) (TN00-33)

TN99-34 (Mar. 12, 1999) (TN00-34)

TN99-35 (Mar. 12, 1999) (TN00-35)

TN99-36 (Mar. 12, 1999) (TN00-36)

TN99-37 (Mar. 12, 1999) (TN00-37)

TN99-38 (Mar. 12, 1999) (TN00-38)

TN99-39 (Mar. 12, 1999) (TN00-39)

TN99-40 (Mar. 12, 1999) (TN00-40)

TN99-41 (Mar. 12, 1999) (TN00-41)

TN99-42 (Mar. 12, 1999) (TN00-42)

TN99-43 (Mar. 12, 1999) (TN00-43)

TN99-44 (Mar. 12, 1999) (TN00-44)

TN99-45 (Mar. 12, 1999) (TN00-45)

TN99-46 (Mar. 12, 1999) (TN00-46)

TN99-47 (Mar. 12, 1999) (TN00-47)

TN99-48 (Mar. 12, 1999) (TN00-48)

TN99-49 (Mar. 12, 1999) (TN00-49)

TN99-50 (Mar. 12, 1999) (TN00-50)

TN99-51 (Mar. 12, 1999) (TN00-51)

TN99-52 (Mar. 12, 1999) (TN00-52)

TN99-53 (Mar. 12, 1999) (TN00-53)

TN99-54 (Mar. 12, 1999) (TN00-54)

TN99-55 (Mar. 12, 1999) (TN00-55)

TN99-56 (Mar. 12, 1999) (TN00-56)

TN99-57 (Mar. 12, 1999) (TN00-57)

TN99-58 (Mar. 12, 1999) (TN00-58)

TN99-59 (Mar. 12, 1999) (TN00-59)

TN99-60 (Mar. 12, 1999) (TN00-60)

TN99-61 (Mar. 12, 1999) (TN00-61)

TN99-62 (Mar. 12, 1999) (TN00-62)

TN99-63 (Mar. 12, 1999) (TN00-63)

TN99-64 (Mar. 12, 1999) (TN00-64)

TN99-65 (Mar. 12, 1999) (TN00-65)

TN99-66 (Mar. 12, 1999) (TN00-66)

Volume IV

Illinois

IL99-01 (Mar. 12, 1999) (IL00-01)

IL99-02 (Mar. 12, 1999) (IL00-02)

IL99-03 (Mar. 12, 1999) (IL00-03)

IL99-04 (Mar. 12, 1999) (IL00-04)

IL99-05 (Mar. 12, 1999) (IL00-05)

IL99-06 (Mar. 12, 1999) (IL00-06)

IL99-07 (Mar. 12, 1999) (IL00-07)

IL99-08 (Mar. 12, 1999) (IL00-08)

IL99-09 (Mar. 12, 1999) (IL00-09)

IL99-10 (Mar. 12, 1999) (IL00-10)

IL99-11 (Mar. 12, 1999) (IL00-11)

IL99-12 (Mar. 12, 1999) (IL00-12)

IL99-13 (Mar. 12, 1999) (IL00-13)

IL99-14 (Mar. 12, 1999) (IL00-14)

IL99-15 (Mar. 12, 1999) (IL00-15)

IL99-16 (Mar. 12, 1999) (IL00-16)

IL99-17 (Mar. 12, 1999) (IL00-17)

IL99-18 (Mar. 12, 1999) (IL00-18)

IL99-19 (Mar. 12, 1999) (IL00-19)

IL99-20 (Mar. 12, 1999) (IL00-20)

IL99-21 (Mar. 12, 1999) (IL00-21)

IL99-22 (Mar. 12, 1999) (IL00-22)

IL99-23 (Mar. 12, 1999) (IL00-23)

IL99-24 (Mar. 12, 1999) (IL00-24)

IL99-25 (Mar. 12, 1999) (IL00-25)

IL99-26 (Mar. 12, 1999) (IL00-26)

IL99-27 (Mar. 12, 1999) (IL00-27)

IL99-28 (Mar. 12, 1999) (IL00-28)

IL99-29 (Mar. 12, 1999) (IL00-29)

IL99-30 (Mar. 12, 1999) (IL00-30)

IL99-31 (Mar. 12, 1999) (IL00-31)

IL99-32 (Mar. 12, 1999) (IL00-32)

IL99-33 (Mar. 12, 1999) (IL00-33)

IL99-34 (Mar. 12, 1999) (IL00-34)

IL99-35 (Mar. 12, 1999) (IL00-35)

IL99-36 (Mar. 12, 1999) (IL00-36)

IL99-37 (Mar. 12, 1999) (IL00-37)

IL99-38 (Mar. 12, 1999) (IL00-38)

IL99-39 (Mar. 12, 1999) (IL00-39)

IL99-40 (Mar. 12, 1999) (IL00-40)

IL99-41 (Mar. 12, 1999) (IL00-41)

IL99-42 (Mar. 12, 1999) (IL00-42)

IL99-43 (Mar. 12, 1999) (IL00-43)

IL99-44 (Mar. 12, 1999) (IL00-44)

IL99-45 (Mar. 12, 1999) (IL00-45)

IL99-46 (Mar. 12, 1999) (IL00-46)

IL99-47 (Mar. 12, 1999) (IL00-47)

IL99-48 (Mar. 12, 1999) (IL00-48)

IL99-49 (Mar. 12, 1999) (IL00-49)

IL99-50 (Mar. 12, 1999) (IL00-50)

IL99-51 (Mar. 12, 1999) (IL00-51)

IL99-52 (Mar. 12, 1999) (IL00-52)

IL99-53 (Mar. 12, 1999) (IL00-53)

IL99-54 (Mar. 12, 1999) (IL00-54)

IL99-55 (Mar. 12, 1999) (IL00-55)

IL99-56 (Mar. 12, 1999) (IL00-56)

IL99-57 (Mar. 12, 1999) (IL00-57)

IL99-58 (Mar. 12, 1999) (IL00-58)

IL99-59 (Mar. 12, 1999) (IL00-59)

IL99-60 (Mar. 12, 1999) (IL00-60)

IL99-61 (Mar. 12, 1999) (IL00-61)

IL99-62 (Mar. 12, 1999) (IL00-62)

IL99-63 (Mar. 12, 1999) (IL00-63)

IL99-64 (Mar. 12, 1999) (IL00-64)

IL99-65 (Mar. 12, 1999) (IL00-65)

IL99-66 (Mar. 12, 1999) (IL00-66)

IL99-67 (Mar. 12, 1999) (IL00-67)

IL99-68 (Mar. 12, 1999) (IL00-68)

IL99-69 (Mar. 12, 1999) (IL00-69)

IL99-70 (Mar. 12, 1999) (IL00-70)

Indiana

IN99-01 (Mar. 12, 1999) (IN00-01)

IN99-02 (Mar. 12, 1999) (IN00-02)

IN99-03 (Mar. 12, 1999) (IN00-03)

IN99-04 (Mar. 12, 1999) (IN00-04)

IN99-05 (Mar. 12, 1999) (IN00-05)

IN99-06 (Mar. 12, 1999) (IN00-06)

IN99-07 (Mar. 12, 1999) (IN00-07)

IN99-08 (Mar. 12, 1999) (IN00-08)

IN99-09 (Mar. 12, 1999) (IN00-09)

IN99-10 (Mar. 12, 1999) (IN00-10)

IN99-11 (Mar. 12, 1999) (IN00-11)

IN99-12 (Mar. 12, 1999) (IN00-12)

IN99-13 (Mar. 12, 1999) (IN00-13)

IN99-14 (Mar. 12, 1999) (IN00-14)

IN99-15 (Mar. 12, 1999) (IN00-15)

IN99-16 (Mar. 12, 1999) (IN00-16)

IN99-17 (Mar. 12, 1999) (IN00-17)

IN99-18 (Mar. 12, 1999) (IN00-18)

IN99-19 (Mar. 12, 1999) (IN00-19)

IN99-20 (Mar. 12, 1999) (IN00-20)

IN99-21 (Mar. 12, 1999) (IN00-21)

IN99-22 (Mar. 12, 1999) (IN00-22)

IN99-23 (Mar. 12, 1999) (IN00-23)

IN99-24 (Mar. 12, 1999) (IN00-24)

IN99-25 (Mar. 12, 1999) (IN00-25)

IN99-26 (Mar. 12, 1999) (IN00-26)

IN99-27 (Mar. 12, 1999) (IN00-27)

IN99-28 (Mar. 12, 1999) (IN00-28)

IN99-29 (Mar. 12, 1999) (IN00-29)

IN99-30 (Mar. 12, 1999) (IN00-30)

IN99-31 (Mar. 12, 1999) (IN00-31)

IN99-32 (Mar. 12, 1999) (IN00-32)

IN99-33 (Mar. 12, 1999) (IN00-33)

IN99-34 (Mar. 12, 1999) (IN00-34)

IN99-35 (Mar. 12, 1999) (IN00-35)

IN99-36 (Mar. 12, 1999) (IN00-36)

IN99-37 (Mar. 12, 1999) (IN00-37)

IN99-38 (Mar. 12, 1999) (IN00-38)

IN99-39 (Mar. 12, 1999) (IN00-39)

IN99-40 (Mar. 12, 1999) (IN00-40)

IN99-41 (Mar. 12, 1999) (IN00-41)

IN99-42 (Mar. 12, 1999) (IN00-42)

IN99-43 (Mar. 12, 1999) (IN00-43)

IN99-44 (Mar. 12, 1999) (IN00-44)

IN99-45 (Mar. 12, 1999) (IN00-45)

IN99-46 (Mar. 12, 1999) (IN00-46)

IN99-47 (Mar. 12, 1999) (IN00-47)

IN99-48 (Mar. 12, 1999) (IN00-48)

IN99-49 (Mar. 12, 1999) (IN00-49)

Michigan

MI99-01 (Mar. 12, 1999) (MI00-01)

MI99-02 (Mar. 12, 1999) (MI00-02)

MI99-03 (Mar. 12, 1999) (MI00-03)

MI99-04 (Mar. 12, 1999) (MI00-04)

MI99-05 (Mar. 12, 1999) (MI00-05)

MI99-06 (Mar. 12, 1999) (MI00-06)

MI99-07 (Mar. 12, 1999) (MI00-07)

MI99-08 (Mar. 12, 1999) (MI00-08)

MI99-09 (Mar. 12, 1999) (MI00-09)

MI99-10 (Mar. 12, 1999) (MI00-10)

MI99-11 (Mar. 12, 1999) (MI00-11)

MI99-12 (Mar. 12, 1999) (MI00-12)

MI99-13 (Mar. 12, 1999) (MI00-13)

MI99-14 (Mar. 12, 1999) (MI00-14)

MI99-15 (Mar. 12, 1999) (MI00-15)

MI99-16 (Mar. 12, 1999) (MI00-16)

MI99-17 (Mar. 12, 1999) (MI00-17)

MI99-18 (Mar. 12, 1999) (MI00-18)

MI99-19 (Mar. 12, 1999) (MI00-19)

MI99-20 (Mar. 12, 1999) (MI00-20)

MI99-21 (Mar. 12, 1999) (MI00-21)

MI99-22 (Mar. 12, 1999) (MI00-22)

MI99-23 (Mar. 12, 1999) (MI00-23)

MI99-24 (Mar. 12, 1999) (MI00-24)

MI99-25 (Mar. 12, 1999) (MI00-25)

MI99-26 (Mar. 12, 1999) (MI00-26)

MI99-27 (Mar. 12, 1999) (MI00-27)

MI99-28 (Mar. 12, 1999) (MI00-28)

MI99-29 (Mar. 12, 1999) (MI00-29)

MI99-30 (Mar. 12, 1999) (MI00-30)

MI99-31 (Mar. 12, 1999) (MI00-31)

MI99-32 (Mar. 12, 1999) (MI00-32)

MI99-33 (Mar. 12, 1999) (MI00-33)

MI99-34 (Mar. 12, 1999) (MI00-34)

MI99-35 (Mar. 12, 1999) (MI00-35)

MI99-36 (Mar. 12, 1999) (MI00-36)

MI99-37 (Mar. 12, 1999) (MI00-37)

MI99-38 (Mar. 12, 1999) (MI00-38)

MI99-39 (Mar. 12, 1999) (MI00-39)

MI99-40 (Mar. 12, 1999) (MI00-40)

MI99-41 (Mar. 12, 1999) (MI00-41)

MI99-42 (Mar. 12, 1999) (MI00-42)

MI99-43 (Mar. 12, 1999) (MI00-43)

MI99-44 (Mar. 12, 1999) (MI00-44)

MI99-45 (Mar. 12, 1999) (MI00-45)

MI99-46 (Mar. 12, 1999) (MI00-46)

MI99-47 (Mar. 12, 1999) (MI00-47)

MI99-48 (Mar. 12, 1999) (MI00-48)

MI99-49 (Mar. 12, 1999) (MI00-49)

MI99-50 (Mar. 12, 1999) (MI00-50)

MI99-51 (Mar. 12, 1999) (MI00-51)

MI99-52 (Mar. 12, 1999) (MI00-52)

MI99-53 (Mar. 12, 1999) (MI00-53)

MI99-54 (Mar. 12, 1999) (MI00-54)

MI99-55 (Mar. 12, 1999) (MI00-55)

MI99-56 (Mar. 12, 1999) (MI00-56)

MI99-57 (Mar. 12, 1999) (MI00-57)

MI99-58 (Mar. 12, 1999) (MI00-58)

MI99-59 (Mar. 12, 1999) (MI00-59)

MI99-60 (Mar. 12, 1999) (MI00-60)

MI99-61 (Mar. 12, 1999) (MI00-61)

MI99-62 (Mar. 12, 1999) (MI00-62)

MI99-63 (Mar. 12, 1999) (MI00-63)

MI99-64 (Mar. 12, 1999) (MI00-64)

MI99-65 (Mar. 12, 1999) (MI00-65)

MI99-66 (Mar. 12, 1999) (MI00-66)

MI99-67 (Mar. 12, 1999) (MI00-67)

MI99-68 (Mar. 12, 1999) (MI00-68)

MI99-69 (Mar. 12, 1999) (MI00-69)

MI99-70 (Mar. 12, 1999) (MI00-70)

MI99-71 (Mar. 12, 1999) (MI00-71)

MI99-72 (Mar. 12, 1999) (MI00-72)

MI99-73 (Mar. 12, 1999) (MI00-73)

MI99-74 (Mar. 12, 1999) (MI00-74)

MI99-75 (Mar. 12, 1999) (MI00-75)

MI99-76 (Mar. 12, 1999) (MI00-76)

MI99-77 (Mar. 12, 1999) (MI00-77)

MI99-78 (Mar. 12, 1999) (MI00-78)

MI99-79 (Mar. 12, 1999) (MI00-79)

MI99-80 (Mar. 12, 1999) (MI00-80)

MI99-81 (Mar. 12, 1999) (MI00-81)

MI99-82 (Mar. 12, 1999) (MI00-82)

MI99-83 (Mar. 12, 1999) (MI00-83)

MI99-84 (Mar. 12, 1999) (MI00-84)

MI99-85 (Mar. 12, 1999) (MI00-85)

MI99-86 (Mar. 12, 1999) (MI00-86)

MI99-87 (Mar. 12, 1999) (MI00-87)

MI99-88 (Mar. 12, 1999) (MI00-88)

Minnesota

MN99-01 (Mar. 12, 1999) (MN00-01)

MN99-02 (Mar. 12, 1999) (MN00-02)

MN99-03 (Mar. 12, 1999) (MN00-03)

MN99-04 (Mar. 12, 1999) (MN00-04)

MN99-05 (Mar. 12, 1999) (MN00-05)

MN99-06 (Mar. 12, 1999) (MN00-06)

MN99-07 (Mar. 12, 1999) (MN00-07)

MN99-08 (Mar. 12, 1999) (MN00-08)

MN99-09 (Mar. 12, 1999) (MN00-09)

MN99-10 (Mar. 12, 1999) (MN00-10)

MN99-11 (Mar. 12, 1999) (MN00-11)

MN99-12 (Mar. 12, 1999) (MN00-12)

MN99-13 (Mar. 12, 1999) (MN00-13)

MN99-14 (Mar. 12, 1999) (MN00-14)

MN99-15 (Mar. 12, 1999) (MN00-15)

MN99-16 (Mar. 12, 1999) (MN00-16)

MN99-17 (Mar. 12, 1999) (MN00-17)

MN99-18 (Mar. 12, 1999) (MN00-18)

MN99-19 (Mar. 12, 1999) (MN00-19)

MN99-20 (Mar. 12, 1999) (MN00-20)

MN99-21 (Mar. 12, 1999) (MN00-21)

MN99-22 (Mar. 12, 1999) (MN00-22)

MN99-23 (Mar. 12, 1999) (MN00-23)

MN99-24 (Mar. 12, 1999) (MN00-24)

MN99-25 (Mar. 12, 1999) (MN00-25)

MN99-26 (Mar. 12, 1999) (MN00-26)

MN99-27 (Mar. 12, 1999) (MN00-27)

MN99-28 (Mar. 12, 1999) (MN00-28)

MN99-29 (Mar. 12, 1999) (MN00-29)

MN99-30 (Mar. 12, 1999) (MN00-30)

MN99-31 (Mar. 12, 1999) (MN00-31)

MN99-32 (Mar. 12, 1999) (MN00-32)

MN99-33 (Mar. 12, 1999) (MN00-33)

MN99-34 (Mar. 12, 1999) (MN00-34)

MN99-35 (Mar. 12, 1999) (MN00-35)

MN99-36 (Mar. 12, 1999) (MN00-36)

MN99-37 (Mar. 12, 1999) (MN00-37)

MN99-38 (Mar. 12, 1999) (MN00-38)

MN99-39 (Mar. 12, 1999) (MN00-39)

MN99-40 (Mar. 12, 1999) (MN00-40)

MN99-41 (Mar. 12, 1999) (MN00-41)

MN99-42 (Mar. 12, 1999) (MN00-42)

MN99-43 (Mar. 12, 1999) (MN00-43)

MN99-44 (Mar. 12, 1999) (MN00-44)

MN99-45 (Mar. 12, 1999) (MN00-45)

MN99-46 (Mar. 12, 1999) (MN00-46)

MN99-47 (Mar. 12, 1999) (MN00-47)

MN99-48 (Mar. 12, 1999) (MN00-48)

MN99-49 (Mar. 12, 1999) (MN00-49)

MN99-50 (Mar. 12, 1999) (MN00-50)

MN99-51 (Mar. 12, 1999) (MN00-51)

MN99-52 (Mar. 12, 1999) (MN00-52)

MN99-53 (Mar. 12, 1999) (MN00-53)

MN99-54 (Mar. 12, 1999) (MN00-54)

MN99-55 (Mar. 12, 1999) (MN00-55)

MN99-56 (Mar. 12, 1999) (MN00-56)

MN99-57 (Mar. 12, 1999) (MN00-57)

MN99-58 (Mar. 12, 1999) (MN00-58)

MN99-59 (Mar. 12, 1999) (MN00-59)

MN99-60 (Mar. 12, 1999) (MN00-60)

MN99-61 (Mar. 12, 1999) (MN00-61)

MN99-62 (Mar. 12, 1999) (MN00-62)

Ohio

OH99-01 (Mar. 12, 1999) (OH00-01)

OH99-02 (Mar. 12, 1999) (OH00-02)

OH99-03 (Mar. 12, 1999) (OH00-03)

OH99-04 (Mar. 12, 1999) (OH00-04)

OH99-05 (Mar. 12, 1999) (OH00-05)

OH99-06 (Mar. 12, 1999) (OH00-06)

OH99-07 (Mar. 12, 1999) (OH00-07)

OH99-08 (Mar. 12, 1999) (OH00-08)

OH99-09 (Mar. 12, 1999) (OH00-09)

OH99-10 (Mar. 12, 1999) (OH00-10)

OH99-11 (Mar. 12, 1999) (OH00-11)

OH99-12 (Mar. 12, 1999) (OH00-12)

OH99-13 (Mar. 12, 1999) (OH00-13)

OH99-14 (Mar. 12, 1999) (OH00-14)

OH99-15 (Mar. 12, 1999) (OH00-15)

OH99-16 (Mar. 12, 1999) (OH00-16)

OH99-17 (Mar. 12, 1999) (OH00-17)

OH99-18 (Mar. 12, 1999) (OH00-18)

OH99-19 (Mar. 12, 1999) (OH00-19)

OH99-20 (Mar. 12, 1999) (OH00-20)

OH99-21 (Mar. 12, 1999) (OH00-21)

OH99-22 (Mar. 12, 1999) (OH00-21)

OH99-23 (Mar. 12, 1999) (OH00-23)

OH99-24 (Mar. 12, 1999) (OH00-24)

OH99-25 (Mar. 12, 1999) (OH00-25)

OH99-26 (Mar. 12, 1999) (OH00-26)

OH99-27 (Mar. 12, 1999) (OH00-27)

OH99-28 (Mar. 12, 1999) (OH00-28)

OH99-29 (Mar. 12, 1999) (OH00-29)

OH99-30 (Mar. 12, 1999) (OH00-30)

OH99-31 (Mar. 12, 1999) (OH00-31)

OH99-32 (Mar. 12, 1999) (OH00-32)

OH99-33 (Mar. 12, 1999) (OH00-33)

OH99-34 (Mar. 12, 1999) (OH00-34)

OH99-35 (Mar. 12, 1999) (OH00-35)

OH99-36 (Mar. 12, 1999) (OH00-36)

Wisconsin

WI99-01 (Mar. 12, 1999) (WI00-01)

WI99-02 (Mar. 12, 1999) (WI00-02)

WI99-03 (Mar. 12, 1999) (WI00-03)

WI99-04 (Mar. 12, 1999) (WI00-04)

WI99-05 (Mar. 12, 1999) (WI00-05)

WI99-06 (Mar. 12, 1999) (WI00-06)

WI99-07 (Mar. 12, 1999) (WI00-07)

WI99-08 (Mar. 12, 1999) (WI00-08)

WI99-09 (Mar. 12, 1999) (WI00-09)

WI99-10 (Mar. 12, 1999) (WI00-10)

WI99-11 (Mar. 12, 1999) (WI00-11)

WI99-12 (Mar. 12, 1999) (WI00-12)

WI99-13 (Mar. 12, 1999) (WI00-13)

WI99-14 (Mar. 12, 1999) (WI00-14)

WI99-15 (Mar. 12, 1999) (WI00-15)

WI99-16 (Mar. 12, 1999) (WI00-16)

WI99-17 (Mar. 12, 1999) (WI00-17)

WI99-18 (Mar. 12, 1999) (WI00-18)

WI99-19 (Mar. 12, 1999) (WI00-19)

WI99-20 (Mar. 12, 1999) (WI00-20)

WI99-21 (Mar. 12, 1999) (WI00-21)

WI99-22 (Mar. 12, 1999) (WI00-22)

WI99-23 (Mar. 12, 1999) (WI00-23)

WI99-24 (Mar. 12, 1999) (WI00-24)

WI99-25 (Mar. 12, 1999) (WI00-25)

WI99-26 (Mar. 12, 1999) (WI00-26)

WI99-27 (Mar. 12, 1999) (WI00-27)

WI99-28 (Mar. 12, 1999) (WI00-28)

WI99-29 (Mar. 12, 1999) (WI00-29)

WI99-30 (Mar. 12, 1999) (WI00-30)

WI99-31 (Mar. 12, 1999) (WI00-31)

WI99-32 (Mar. 12, 1999) (WI00-32)

WI99-33 (Mar. 12, 1999) (WI00-33)

WI99-34 (Mar. 12, 1999) (WI00-34)

WI99-35 (Mar. 12, 1999) (WI00-35)

WI99-36 (Mar. 12, 1999) (WI00-36)

WI99-37 (Mar. 12, 1999) (WI00-37)

WI99-38 (Mar. 12, 1999) (WI00-38)

WI99-39 (Mar. 12, 1999) (WI00-39)

WI99-40 (Mar. 12, 1999) (WI00-40)

WI99-41 (Mar. 12, 1999) (WI00-41)

WI99-42 (Mar. 12, 1999) (WI00-42)

WI99-43 (Mar. 12, 1999) (WI00-43)

WI99-44 (Mar. 12, 1999) (WI00-44)

WI99-45 (Mar. 12, 1999) (WI00-45)

WI99-46 (Mar. 12, 1999) (WI00-46)

WI99-47 (Mar. 12, 1999) (WI00-47)

WI99-48 (Mar. 12, 1999) (WI00-48)

WI99-49 (Mar. 12, 1999) (WI00-49)

WI99-50 (Mar. 12, 1999) (WI00-50)

WI99-51 (Mar. 12, 1999) (WI00-51)

WI99-52 (Mar. 12, 1999) (WI00-52)

WI99-53 (Mar. 12, 1999) (WI00-53)

WI99-54 (Mar. 12, 1999) (WI00-54)

WI99-55 (Mar. 12, 1999) (WI00-55)

WI99-56 (Mar. 12, 1999) (WI00-56)

WI99-57 (Mar. 12, 1999) (WI00-57)

WI99-58 (Mar. 12, 1999) (WI00-58)

WI99-59 (Mar. 12, 1999) (WI00-59)

WI99-60 (Mar. 12, 1999) (WI00-60)

WI99-61 (Mar. 12, 1999) (WI00-61)

WI99-62 (Mar. 12, 1999) (WI00-62)

WI99-63 (Mar. 12, 1999) (WI00-63)

WI99-64 (Mar. 12, 1999) (WI00-64)

WI99-65 (Mar. 12, 1999) (WI00-65)

WI99-66 (Mar. 12, 1999) (WI00-66)

WI99-67 (Mar. 12, 1999) (WI00-67)

WI99-68 (Mar. 12, 1999) (WI00-68)

WI99-69 (Mar. 12, 1999) (WI00-69)

Volume V

Arkansas

AR99-01 (Mar. 12, 1999) (AR00-01)

AR99-02 (Mar. 12, 1999) (AR00-02)

AR99-03 (Mar. 12, 1999) (AR00-03)

AR99-04 (Mar. 12, 1999) (AR00-04)

AR99-05 (Mar. 12, 1999) (AR00-05)

AR99-06 (Mar. 12, 1999) (AR00-06)

AR99-07 (Mar. 12, 1999) (AR00-07)

AR99-08 (Mar. 12, 1999) (AR00-08)

AR99-09 (Mar. 12, 1999) (AR00-09)

AR99-10 (Mar. 12, 1999) (AR00-10)

AR99-11 (Mar. 12, 1999) (AR00-11)

AR99-12 (Mar. 12, 1999) (AR00-12)

AR99-13 (Mar. 12, 1999) (AR00-13)

AR99-14 (Mar. 12, 1999) (AR00-14)

AR99-15 (Mar. 12, 1999) (AR00-15)

AR99-16 (Mar. 12, 1999) (AR00-16)

AR99-17 (Mar. 12, 1999) (AR00-17)

AR99-18 (Mar. 12, 1999) (AR00-18)

AR99-19 (Mar. 12, 1999) (AR00-19)

AR99-20 (Mar. 12, 1999) (AR00-20)

AR99-21 (Mar. 12, 1999) (AR00-21)

AR99-22 (Mar. 12, 1999) (AR00-22)

AR99-23 (Mar. 12, 1999) (AR00-23)

AR99-24 (Mar. 12, 1999) (AR00-24)

AR99-25 (Mar. 12, 1999) (AR00-25)

AR99-26 (Mar. 12, 1999) (AR00-26)

AR99-27 (Mar. 12, 1999) (AR00-27)

AR99-28 (Mar. 12, 1999) (AR00-28)

AR99-29 (Mar. 12, 1999) (AR00-29)

AR99-30 (Mar. 12, 1999) (AR00-30)

AR99-31 (Mar. 12, 1999) (AR00-31)

AR99-32 (Mar. 12, 1999) (AR00-32)

AR99-33 (Mar. 12, 1999) (AR00-33)

AR99-34 (Mar. 12, 1999) (AR00-34)

AR99-35 (Mar. 12, 1999) (AR00-35)

AR99-36 (Mar. 12, 1999) (AR00-36)

AR99-37 (Mar. 12, 1999) (AR00-37)

AR99-38 (Mar. 12, 1999) (AR00-38)

AR99-39 (Mar. 12, 1999) (AR00-39)

AR99-40 (Mar. 12, 1999) (AR00-40)

AR99-41 (Mar. 12, 1999) (AR00-41)

AR99-42 (Mar. 12, 1999) (AR00-42)

AR99-43 (Mar. 12, 1999) (AR00-43)

AR99-44 (Mar. 12, 1999) (AR00-44)

AR99-45 (Mar. 12, 1999) (AR00-45)

AR99-46 (Mar. 12, 1999) (AR00-46)

AR99-47 (Mar. 12, 1999) (AR00-47)

Iowa

IA99-01 (Mar. 12, 1999) (IA00-01)

IA99-02 (Mar. 12, 1999) (IA00-02)

IA99-03 (Mar. 12, 1999) (IA00-03)

IA99-04 (Mar. 12, 1999) (IA00-04)

IA99-05 (Mar. 12, 1999) (IA00-05)

IA99-06 (Mar. 12, 1999) (IA00-06)

IA99-07 (Mar. 12, 1999) (IA00-07)

IA99-08 (Mar. 12, 1999) (IA00-08)

IA99-09 (Mar. 12, 1999) (IA00-09)

IA99-10 (Mar. 12, 1999) (IA00-10)

IA99-11 (Mar. 12, 1999) (IA00-11)

IA99-12 (Mar. 12, 1999) (IA00-12)

IA99-13 (Mar. 12, 1999) (IA00-13)

IA99-14 (Mar. 12, 1999) (IA00-14)

IA99-15 (Mar. 12, 1999) (IA00-15)

IA99-16 (Mar. 12, 1999) (IA00-16)

IA99-17 (Mar. 12, 1999) (IA00-17)

IA99-18 (Mar. 12, 1999) (IA00-18)

IA99-19 (Mar. 12, 1999) (IA00-19)

IA99-20 (Mar. 12, 1999) (IA00-20)

IA99-21 (Mar. 12, 1999) (IA00-21)

IA99-22 (Mar. 12, 1999) (IA00-22)

IA99-23 (Mar. 12, 1999) (IA00-23)

IA99-24 (Mar. 12, 1999) (IA00-24)

IA99-25 (Mar. 12, 1999) (IA00-25)

IA99-26 (Mar. 12, 1999) (IA00-26)

IA99-27 (Mar. 12, 1999) (IA00-27)

IA99-28 (Mar. 12, 1999) (IA00-28)

IA99-29 (Mar. 12, 1999) (IA00-29)

IA99-30 (Mar. 12, 1999) (IA00-30)

IA99-31 (Mar. 12, 1999) (IA00-31)

IA99-32 (Mar. 12, 1999) (IA00-32)

IA99-33 (Mar. 12, 1999) (IA00-33)

IA99-34 (Mar. 12, 1999) (IA00-34)

IA99-35 (Mar. 12, 1999) (IA00-35)

IA99-36 (Mar. 12, 1999) (IA00-36)

IA99-37 (Mar. 12, 1999) (IA00-37)

IA99-38 (Mar. 12, 1999) (IA00-38)

IA99-39 (Mar. 12, 1999) (IA00-39)

IA99-40 (Mar. 12, 1999) (IA00-40)

IA99-41 (Mar. 12, 1999) (IA00-41)

IA99-42 (Mar. 12, 1999) (IA00-42)

IA99-43 (Mar. 12, 1999) (IA00-43)

IA99-44 (Mar. 12, 1999) (IA00-44)

IA99-45 (Mar. 12, 1999) (IA00-45)

IA99-46 (Mar. 12, 1999) (IA00-46)

IA99-47 (Mar. 12, 1999) (IA00-47)

IA99-48 (Mar. 12, 1999) (IA00-48)

IA99-49 (Mar. 12, 1999) (IA00-49)

IA99-50 (Mar. 12, 1999) (IA00-50)

IA99-51 (Mar. 12, 1999) (IA00-51)

IA99-52 (Mar. 12, 1999) (IA00-52)

IA99-53 (Mar. 12, 1999) (IA00-53)

IA99-54 (Mar. 12, 1999) (IA00-54)

IA99-55 (Mar. 12, 1999) (IA00-55)

IA99-56 (Mar. 12, 1999) (IA00-56)

IA99-57 (Mar. 12, 1999) (IA00-57)

IA99-58 (Mar. 12, 1999) (IA00-58)

IA99-59 (Mar. 12, 1999) (IA00-59)

IA99-60 (Mar. 12, 1999) (IA00-60)

IA99-61 (Mar. 12, 1999) (IA00-61)

IA99-62 (Mar. 12, 1999) (IA00-62)

IA99-63 (Mar. 12, 1999) (IA00-63)

IA99-64 (Mar. 12, 1999) (IA00-64)

IA99-65 (Mar. 12, 1999) (IA00-65)

IA99-66 (Mar. 12, 1999) (IA00-66)

IA99-67 (Mar. 12, 1999) (IA00-67)

IA99-68 (Mar. 12, 1999) (IA00-68)

IA99-69 (Mar. 12, 1999) (IA00-69)

IA99-70 (Mar. 12, 1999) (IA00-70)

IA99-71 (Mar. 12, 1999) (IA00-71)

IA99-72 (Mar. 12, 1999) (IA00-72)

IA99-73 (Mar. 12, 1999) (IA00-73)

IA99-74 (Mar. 12, 1999) (IA00-74)

IA99-75 (Mar. 12, 1999) (IA00-75)

IA99-76 (Mar. 12, 1999) (IA00-76)

IA99-77 (Mar. 12, 1999) (IA00-77)

IA99-78 (Mar. 12, 1999) (IA00-78)

IA99-79 (Mar. 12, 1999) (IA00-79)

IA99-80 (Mar. 12, 1999) (IA00-80)

Kansas

KS99-01 (Mar. 12, 1999) (KS00-01)

KS99-02 (Mar. 12, 1999) (KS00-02)

KS99-03 (Mar. 12, 1999) (KS00-03)

KS99-04 (Mar. 12, 1999) (KS00-04)

KS99-05 (Mar. 12, 1999) (KS00-05)

KS99-06 (Mar. 12, 1999) (KS00-06)

KS99-07 (Mar. 12, 1999) (KS00-07)

KS99-08 (Mar. 12, 1999) (KS00-08)

KS99-09 (Mar. 12, 1999) (KS00-09)

KS99-10 (Mar. 12, 1999) (KS00-10)

KS99-11 (Mar. 12, 1999) (KS00-11)

KS99-12 (Mar. 12, 1999) (KS00-12)

KS99-13 (Mar. 12, 1999) (KS00-13)

KS99-14 (Mar. 12, 1999) (KS00-14)

KS99-15 (Mar. 12, 1999) (KS00-15)

KS99-16 (Mar. 12, 1999) (KS00-16)

KS99-17 (Mar. 12, 1999) (KS00-17)

KS99-18 (Mar. 12, 1999) (KS00-18)

KS99-19 (Mar. 12, 1999) (KS00-19)

KS99-20 (Mar. 12, 1999) (KS00-20)

KS99-21 (Mar. 12, 1999) (KS00-21)

KS99-22 (Mar. 12, 1999) (KS00-22)

KS99-23 (Mar. 12, 1999) (KS00-23)

KS99-24 (Mar. 12, 1999) (KS00-24)

KS99-25 (Mar. 12, 1999) (KS00-25)

KS99-26 (Mar. 12, 1999) (KS00-26)

KS99-27 (Mar. 12, 1999) (KS00-27)

KS99-28 (Mar. 12, 1999) (KS00-28)

KS99-29 (Mar. 12, 1999) (KS00-29)

KS99-30 (Mar. 12, 1999) (KS00-30)

KS99-31 (Mar. 12, 1999) (KS00-31)

KS99-32 (Mar. 12, 1999) (KS00-32)

KS99-33 (Mar. 12, 1999) (KS00-33)

KS99-34 (Mar. 12, 1999) (KS00-34)

KS99-35 (Mar. 12, 1999) (KS00-35)

KS99-36 (Mar. 12, 1999) (KS00-36)

KS99-37 (Mar. 12, 1999) (KS00-37)

KS99-38 (Mar. 12, 1999) (KS00-38)

KS99-39 (Mar. 12, 1999) (KS00-39)

KS99-40 (Mar. 12, 1999) (KS00-40)

KS99-41 (Mar. 12, 1999) (KS00-41)

KS99-42 (Mar. 12, 1999) (KS00-42)

KS99-43 (Mar. 12, 1999) (KS00-43)

KS99-44 (Mar. 12, 1999) (KS00-44)

KS99-45 (Mar. 12, 1999) (KS00-45)

KS99-46 (Mar. 12, 1999) (KS00-46)

KS99-47 (Mar. 12, 1999) (KS00-47)

KS99-48 (Mar. 12, 1999) (KS00-48)

KS99-49 (Mar. 12, 1999) (KS00-49)

KS99-50 (Mar. 12, 1999) (KS00-50)

KS99-51 (Mar. 12, 1999) (KS00-51)

KS99-52 (Mar. 12, 1999) (KS00-52)

KS99-53 (Mar. 12, 1999) (KS00-53)

KS99-54 (Mar. 12, 1999) (KS00-54)

KS99-55 (Mar. 12, 1999) (KS00-55)

KS99-56 (Mar. 12, 1999) (KS00-56)

KS99-57 (Mar. 12, 1999) (KS00-57)

KS99-58 (Mar. 12, 1999) (KS00-58)

KS99-59 (Mar. 12, 1999) (KS00-59)

KS99-60 (Mar. 12, 1999) (KS00-60)

KS99-61 (Mar. 12, 1999) (KS00-61)

KS99-62 (Mar. 12, 1999) (KS00-62)

KS99-63 (Mar. 12, 1999) (KS00-63)

KS99-64 (Mar. 12, 1999) (KS00-64)

KS99-65 (Mar. 12, 1999) (KS00-65)

KS99-66 (Mar. 12, 1999) (KS00-66)

KS99-67 (Mar. 12, 1999) (KS00-67)

KS99-68 (Mar. 12, 1999) (KS00-68)

KS99-69 (Mar. 12, 1999) (KS00-69)

KS99-70 (Mar. 12, 1999) (KS00-70)

Louisiana

LA99-01 (Mar. 12, 1999) (LA00-01)

LA99-02 (Mar. 12, 1999) (LA00-02)

LA99-03 (Mar. 12, 1999) (LA00-03)

LA99-04 (Mar. 12, 1999) (LA00-04)

LA99-05 (Mar. 12, 1999) (LA00-05)

LA99-06 (Mar. 12, 1999) (LA00-06)

LA99-07 (Mar. 12, 1999) (LA00-07)

LA99-08 (Mar. 12, 1999) (LA00-08)

LA99-09 (Mar. 12, 1999) (LA00-09)

LA99-10 (Mar. 12, 1999) (LA00-10)

LA99-11 (Mar. 12, 1999) (LA00-11)

LA99-12 (Mar. 12, 1999) (LA00-12)

LA99-13 (Mar. 12, 1999) (LA00-13)

LA99-14 (Mar. 12, 1999) (LA00-14)

LA99-15 (Mar. 12, 1999) (LA00-15)

LA99-16 (Mar. 12, 1999) (LA00-16)

LA99-17 (Mar. 12, 1999) (LA00-17)

LA99-18 (Mar. 12, 1999) (LA00-18)

LA99-19 (Mar. 12, 1999) (LA00-19)

LA99-20 (Mar. 12, 1999) (LA00-20)

LA99-21 (Mar. 12, 1999) (LA00-21)

LA99-22 (Mar. 12, 1999) (LA00-22)

LA99-23 (Mar. 12, 1999) (LA00-23)

LA99-24 (Mar. 12, 1999) (LA00-24)

LA99-25 (Mar. 12, 1999) (LA00-25)

LA99-26 (Mar. 12, 1999) (LA00-26)

LA99-27 (Mar. 12, 1999) (LA00-27)

LA99-28 (Mar. 12, 1999) (LA00-28)

LA99-29 (Mar. 12, 1999) (LA00-29)

LA99-30 (Mar. 12, 1999) (LA00-30)

LA99-31 (Mar. 12, 1999) (LA00-31)

LA99-32 (Mar. 12, 1999) (LA00-32)

LA99-33 (Mar. 12, 1999) (LA00-33)

LA99-34 (Mar. 12, 1999) (LA00-34)

LA99-35 (Mar. 12, 1999) (LA00-35)

LA99-36 (Mar. 12, 1999) (LA00-36)

LA99-37 (Mar. 12, 1999) (LA00-37)

LA99-38 (Mar. 12, 1999) (LA00-38)

LA99-39 (Mar. 12, 1999) (LA00-39)

LA99-40 (Mar. 12, 1999) (LA00-40)

LA99-41 (Mar. 12, 1999) (LA00-41)

LA99-42 (Mar. 12, 1999) (LA00-42)

LA99-43 (Mar. 12, 1999) (LA00-43)

LA99-44 (Mar. 12, 1999) (LA00-44)

LA99-45 (Mar. 12, 1999) (LA00-45)

LA99-46 (Mar. 12, 1999) (LA00-46)

LA99-47 (Mar. 12, 1999) (LA00-47)

LA99-48 (Mar. 12, 1999) (LA00-48)

LA99-49 (Mar. 12, 1999) (LA00-49)

LA99-50 (Mar. 12, 1999) (LA00-50)

LA99-51 (Mar. 12, 1999) (LA00-51)

LA99-52 (Mar. 12, 1999) (LA00-52)

LA99-53 (Mar. 12, 1999) (LA00-53)

LA99-54 (Mar. 12, 1999) (LA00-54)

Missouri

MO99-01 (Mar. 12, 1999) (MO00-01)

MO99-02 (Mar. 12, 1999) (MO00-02)

MO99-03 (Mar. 12, 1999) (MO00-03)

MO99-04 (Mar. 12, 1999) (MO00-04)

MO99-05 (Mar. 12, 1999) (MO00-05)

MO99-06 (Mar. 12, 1999) (MO00-06)

MO99-07 (Mar. 12, 1999) (MO00-07)

MO99-08 (Mar. 12, 1999) (MO00-08)

MO99-09 (Mar. 12, 1999) (MO00-09)

MO99-10 (Mar. 12, 1999) (MO00-10)

MO99-11 (Mar. 12, 1999) (MO00-11)

MO99-12 (Mar. 12, 1999) (MO00-12)

MO99-13 (Mar. 12, 1999) (MO00-13)

MO99-14 (Mar. 12, 1999) (MO00-14)

MO99-15 (Mar. 12, 1999) (MO00-15)

MO99-16 (Mar. 12, 1999) (MO00-16)

MO99-17 (Mar. 12, 1999) (MO00-17)

MO99-18 (Mar. 12, 1999) (MO00-18)

MO99-19 (Mar. 12, 1999) (MO00-19)

MO99-20 (Mar. 12, 1999) (MO00-20)

MO99-21 (Mar. 12, 1999) (MO00-21)

MO99-22 (Mar. 12, 1999) (MO00-22)

MO99-23 (Mar. 12, 1999) (MO00-23)

MO99-24 (Mar. 12, 1999) (MO00-24)

MO99-25 (Mar. 12, 1999) (MO00-25)

MO99-26 (Mar. 12, 1999) (MO00-26)

MO99-27 (Mar. 12, 1999) (MO00-27)

MO99-28 (Mar. 12, 1999) (MO00-28)

MO99-29 (Mar. 12, 1999) (MO00-29)

MO99-30 (Mar. 12, 1999) (MO00-30)

MO99-31 (Mar. 12, 1999) (MO00-31)

MO99-32 (Mar. 12, 1999) (MO00-32)

MO99-33 (Mar. 12, 1999) (MO00-33)

MO99-34 (Mar. 12, 1999) (MO00-34)

MO99-35 (Mar. 12, 1999) (MO00-35)

MO99-36 (Mar. 12, 1999) (MO00-36)

MO99-37 (Mar. 12, 1999) (MO00-37)

MO99-38 (Mar. 12, 1999) (MO00-38)

MO99-39 (Mar. 12, 1999) (MO00-39)

MO99-40 (Mar. 12, 1999) (MO00-40)

MO99-41 (Mar. 12, 1999) (MO00-41)

MO99-42 (Mar. 12, 1999) (MO00-42)

MO99-43 (Mar. 12, 1999) (MO00-43)

MO99-44 (Mar. 12, 1999) (MO00-44)

MO99-45 (Mar. 12, 1999) (MO00-45)

MO99-46 (Mar. 12, 1999) (MO00-46)

MO99-47 (Mar. 12, 1999) (MO00-47)

MO99-48 (Mar. 12, 1999) (MO00-48)

MO99-49 (Mar. 12, 1999) (MO00-49)

MO99-50 (Mar. 12, 1999) (MO00-50)

MO99-51 (Mar. 12, 1999) (MO00-51)

MO99-52 (Mar. 12, 1999) (MO00-52)

MO99-53 (Mar. 12, 1999) (MO00-53)

MO99-54 (Mar. 12, 1999) (MO00-54)

MO99-55 (Mar. 12, 1999) (MO00-55)

MO99-56 (Mar. 12, 1999) (MO00-56)

MO99-57 (Mar. 12, 1999) (MO00-57)

MO99-58 (Mar. 12, 1999) (MO00-58)

MO99-59 (Mar. 12, 1999) (MO00-59)

MO99-60 (Mar. 12, 1999) (MO00-60)

MO99-61 (Mar. 12, 1999) (MO00-61)

MO99-62 (Mar. 12, 1999) (MO00-62)

MO99-63 (Mar. 12, 1999) (MO00-63)

MO99-64 (Mar. 12, 1999) (MO00-64)

MO99-65 (Mar. 12, 1999) (MO00-65)

MO99-66 (Mar. 12, 1999) (MO00-66)

Nebraska

NE99-01 (Mar. 12, 1999) (NE00-01)

NE99-02 (Mar. 12, 1999) (NE00-02)

NE99-03 (Mar. 12, 1999) (NE00-03)

NE99-04 (Mar. 12, 1999) (NE00-04)

NE99-05 (Mar. 12, 1999) (NE00-05)

NE99-06 (Mar. 12, 1999) (NE00-06)

NE99-07 (Mar. 12, 1999) (NE00-07)

NE99-08 (Mar. 12, 1999) (NE00-08)

NE99-09 (Mar. 12, 1999) (NE00-09)

NE99-10 (Mar. 12, 1999) (NE00-10)

NE99-11 (Mar. 12, 1999) (NE00-11)

NE99-12 (Mar. 12, 1999) (NE00-12)

NE99-13 (Mar. 12, 1999) (NE00-13)

NE99-14 (Mar. 12, 1999) (NE00-14)

NE99-15 (Mar. 12, 1999) (NE00-15)

NE99-16 (Mar. 12, 1999) (NE00-16)

NE99-17 (Mar. 12, 1999) (NE00-17)

NE99-18 (Mar. 12, 1999) (NE00-18)

NE99-19 (Mar. 12, 1999) (NE00-19)

NE99-20 (Mar. 12, 1999) (NE00-20)

NE99-21 (Mar. 12, 1999) (NE00-21)

NE99-22 (Mar. 12, 1999) (NE00-22)

NE99-23 (Mar. 12, 1999) (NE00-23)

NE99-24 (Mar. 12, 1999) (NE00-24)

NE99-25 (Mar. 12, 1999) (NE00-25)

NE99-26 (Mar. 12, 1999) (NE00-26)

NE99-27 (Mar. 12, 1999) (NE00-27)

NE99-28 (Mar. 12, 1999) (NE00-28)

NE99-29 (Mar. 12, 1999) (NE00-29)

NE99-30 (Mar. 12, 1999) (NE00-30)

NE99-31 (Mar. 12, 1999) (NE00-31)

NE99-32 (Mar. 12, 1999) (NE00-32)

NE99-33 (Mar. 12, 1999) (NE00-33)

NE99-34 (Mar. 12, 1999) (NE00-34)

NE99-35 (Mar. 12, 1999) (NE00-35)

NE99-36 (Mar. 12, 1999) (NE00-36)

NE99-37 (Mar. 12, 1999) (NE00-37)

NE99-38 (Mar. 12, 1999) (NE00-38)

NE99-39 (Mar. 12, 1999) (NE00-39)

NE99-40 (Mar. 12, 1999) (NE00-40)

NE99-41 (Mar. 12, 1999) (NE00-41)

NE99-42 (Mar. 12, 1999) (NE00-42)

NE99-43 (Mar. 12, 1999) (NE00-43)

NE99-44 (Mar. 12, 1999) (NE00-44)

NE99-45 (Mar. 12, 1999) (NE00-45)

NE99-46 (Mar. 12, 1999) (NE00-46)

NE99-47 (Mar. 12, 1999) (NE00-47)

NE99-48 (Mar. 12, 1999) (NE00-48)

NE99-49 (Mar. 12, 1999) (NE00-49)

NE99-50 (Mar. 12, 1999) (NE00-50)

NE99-51 (Mar. 12, 1999) (NE00-51)

NE99-52 (Mar. 12, 1999) (NE00-52)

NE99-53 (Mar. 12, 1999) (NE00-53)

NE99-54 (Mar. 12, 1999) (NE00-54)

NE99-55 (Mar. 12, 1999) (NE00-55)

NE99-56 (Mar. 12, 1999) (NE00-56)

NE99-57 (Mar. 12, 1999) (NE00-57)

New Mexico

NM99-01 (Mar. 12, 1999) (NM00-01)

NM99-02 (Mar. 12, 1999) (NM00-02)

NM99-03 (Mar. 12, 1999) (NM00-03)

NM99-04 (Mar. 12, 1999) (NM00-04)

NM99-05 (Mar. 12, 1999) (NM00-05)

NM99-06 (Mar. 12, 1999) (NM00-06)

Oklahoma

OK99-01 (Mar. 12, 1999) (OK00-01)

OK99-02 (Mar. 12, 1999) (OK00-02)

OK99-03 (Mar. 12, 1999) (OK00-03)

OK99-04 (Mar. 12, 1999) (OK00-04)

OK99-05 (Mar. 12, 1999) (OK00-05)

OK99-06 (Mar. 12, 1999) (OK00-06)

OK99-07 (Mar. 12, 1999) (OK00-07)

OK99-08 (Mar. 12, 1999) (OK00-08)

OK99-09 (Mar. 12, 1999) (OK00-09)

OK99-10 (Mar. 12, 1999) (OK00-10)

OK99-11 (Mar. 12, 1999) (OK00-11)

OK99-12 (Mar. 12, 1999) (OK00-12)

OK99-13 (Mar. 12, 1999) (OK00-13)

OK99-14 (Mar. 12, 1999) (OK00-14)

OK99-15 (Mar. 12, 1999) (OK00-15)

OK99-16 (Mar. 12, 1999) (OK00-16)

OK99-17 (Mar. 12, 1999) (OK00-17)

OK99-18 (Mar. 12, 1999) (OK00-18)

OK99-19 (Mar. 12, 1999) (OK00-19)

OK99-20 (Mar. 12, 1999) (OK00-20)

OK99-21 (Mar. 12, 1999) (OK00-21)

OK99-22 (Mar. 12, 1999) (OK00-22)

OK99-23 (Mar. 12, 1999) (OK00-23)

OK99-24 (Mar. 12, 1999) (OK00-24)

OK99-25 (Mar. 12, 1999) (OK00-25)

OK99-26 (Mar. 12, 1999) (OK00-26)

OK99-27 (Mar. 12, 1999) (OK00-27)

OK99-28 (Mar. 12, 1999) (OK00-28)

OK99-29 (Mar. 12, 1999) (OK00-29)

OK99-30 (Mar. 12, 1999) (OK00-30)

OK99-31 (Mar. 12, 1999) (OK00-31)

OK99-32 (Mar. 12, 1999) (OK00-32)

OK99-33 (Mar. 12, 1999) (OK00-33)

OK99-34 (Mar. 12, 1999) (OK00-34)

OK99-35 (Mar. 12, 1999) (OK00-35)

OK99-36 (Mar. 12, 1999) (OK00-36)

OK99-37 (Mar. 12, 1999) (OK00-37)

OK99-38 (Mar. 12, 1999) (OK00-38)

OK99-39 (Mar. 12, 1999) (OK00-39)

OK99-40 (Mar. 12, 1999) (OK00-40)

OK99-41 (Mar. 12, 1999) (OK00-41)

OK99-42 (Mar. 12, 1999) (OK00-42)

OK99-43 (Mar. 12, 1999) (OK00-43)

OK99-44 (Mar. 12, 1999) (OK00-44)

OK99-45 (Mar. 12, 1999) (OK00-45)

OK99-46 (Mar. 12, 1999) (OK00-46)

Texas

TX99-01 (Mar. 12, 1999) (TX00-01)

TX99-02 (Mar. 12, 1999) (TX00-02)

TX99-03 (Mar. 12, 1999) (TX00-03)

TX99-04 (Mar. 12, 1999) (TX00-04)

TX99-05 (Mar. 12, 1999) (TX00-05)

TX99-06 (Mar. 12, 1999) (TX00-06)

TX99-07 (Mar. 12, 1999) (TX00-07)

TX99-08 (Mar. 12, 1999) (TX00-08)

TX99-09 (Mar. 12, 1999) (TX00-09)

TX99-10 (Mar. 12, 1999) (TX00-10)

TX99-11 (Mar. 12, 1999) (TX00-11)

TX99-12 (Mar. 12, 1999) (TX00-12)

TX99-13 (Mar. 12, 1999) (TX00-13)

TX99-14 (Mar. 12, 1999) (TX00-14)

TX99-15 (Mar. 12, 1999) (TX00-15)

TX99-16 (Mar. 12, 1999) (TX00-16)

TX99-17 (Mar. 12, 1999) (TX00-17)

TX99-18 (Mar. 12, 1999) (TX00-18)

TX99-19 (Mar. 12, 1999) (TX00-19)

TX99-20 (Mar. 12, 1999) (TX00-20)

TX99-21 (Mar. 12, 1999) (TX00-21)

TX99-22 (Mar. 12, 1999) (TX00-22)

TX99-23 (Mar. 12, 1999) (TX00-23)

TX99-24 (Mar. 12, 1999) (TX00-24)

TX99-25 (Mar. 12, 1999) (TX00-25)

TX99-26 (Mar. 12, 1999) (TX00-26)

TX99-27 (Mar. 12, 1999) (TX00-27)

TX99-28 (Mar. 12, 1999) (TX00-28)

TX99-29 (Mar. 12, 1999) (TX00-29)

TX99-30 (Mar. 12, 1999) (TX00-30)

TX99-31 (Mar. 12, 1999) (TX00-31)

TX99-32 (Mar. 12, 1999) (TX00-32)

TX99-33 (Mar. 12, 1999) (TX00-33)

TX99-34 (Mar. 12, 1999) (TX00-34)

TX99-35 (Mar. 12, 1999) (TX00-35)

TX99-36 (Mar. 12, 1999) (TX00-36)

TX99-37 (Mar. 12, 1999) (TX00-37)

TX99-38 (Mar. 12, 1999) (TX00-38)

TX99-39 (Mar. 12, 1999) (TX00-39)

TX99-40 (Mar. 12, 1999) (TX00-40)

TX99-41 (Mar. 12, 1999) (TX00-41)

TX99-42 (Mar. 12, 1999) (TX00-42)

TX99-43 (Mar. 12, 1999) (TX00-43)

TX99-44 (Mar. 12, 1999) (TX00-44)

TX99-45 (Mar. 12, 1999) (TX00-45)

TX99-46 (Mar. 12, 1999) (TX00-46)

TX99-47 (Mar. 12, 1999) (TX00-47)

TX99-48 (Mar. 12, 1999) (TX00-48)

TX99-49 (Mar. 12, 1999) (TX00-49)

TX99-50 (Mar. 12, 1999) (TX00-50)

TX99-51 (Mar. 12, 1999) (TX00-51)

TX99-52 (Mar. 12, 1999) (TX00-52)

TX99-53 (Mar. 12, 1999) (TX00-53)

TX99-54 (Mar. 12, 1999) (TX00-54)

TX99-55 (Mar. 12, 1999) (TX00-55)

TX99-56 (Mar. 12, 1999) (TX00-56)

TX99-57 (Mar. 12, 1999) (TX00-57)

TX99-58 (Mar. 12, 1999) (TX00-58)

TX99-59 (Mar. 12, 1999) (TX00-59)

TX99-60 (Mar. 12, 1999) (TX00-60)

TX99-61 (Mar. 12, 1999) (TX00-61)

TX99-62 (Mar. 12, 1999) (TX00-62)

TX99-63 (Mar. 12, 1999) (TX00-63)

TX99-64 (Mar. 12, 1999) (TX00-64)

TX99-65 (Mar. 12, 1999) (TX00-65)

TX99-66 (Mar. 12, 1999) (TX00-66)

TX99-67 (Mar. 12, 1999) (TX00-67)

TX99-68 (Mar. 12, 1999) (TX00-68)

TX99-69 (Mar. 12, 1999) (TX00-69)

TX99-70 (Mar. 12, 1999) (TX00-70)

TX99-71 (Mar. 12, 1999) (TX00-71)

TX99-72 (Mar. 12, 1999) (TX00-72)

TX99-73 (Mar. 12, 1999) (TX00-73)

TX99-74 (Mar. 12, 1999) (TX00-74)

TX99-75 (Mar. 12, 1999) (TX00-75)

TX99-76 (Mar. 12, 1999) (TX00-76)

TX99-77 (Mar. 12, 1999) (TX00-77)

TX99-78 (Mar. 12, 1999) (TX00-78)

TX99-79 (Mar. 12, 1999) (TX00-79)

TX99-80 (Mar. 12, 1999) (TX00-80)

TX99-81 (Mar. 12, 1999) (TX00-81)

TX99-82 (Mar. 12, 1999) (TX00-82)

TX99-83 (Mar. 12, 1999) (TX00-83)

TX99-84 (Mar. 12, 1999) (TX00-84)

TX99-85 (Mar. 12, 1999) (TX00-85)

TX99-86 (Mar. 12, 1999) (TX00-86)

TX99-87 (Mar. 12, 1999) (TX00-87)

TX99-88 (Mar. 12, 1999) (TX00-88)

TX99-89 (Mar. 12, 1999) (TX00-89)

TX99-90 (Mar. 12, 1999) (TX00-90)

TX99-91 (Mar. 12, 1999) (TX00-91)

TX99-92 (Mar. 12, 1999) (TX00-92)

TX99-93 (Mar. 12, 1999) (TX00-93)

TX99-94 (Mar. 12, 1999) (TX00-94)

TX99-95 (Mar. 12, 1999) (TX00-95)

TX99-96 (Mar. 12, 1999) (TX00-96)

TX99-97 (Mar. 12, 1999) (TX00-97)

TX99-98 (Mar. 12, 1999) (TX00-98)

TX99-99 (Mar. 12, 1999) (TX00-99)

TX99-100 (Mar. 12, 1999) (TX00-100)

TX99-101 (Mar. 12, 1999) (TX00-101)

TX99-102 (Mar. 12, 1999) (TX00-102)

TX99-103 (Mar. 12, 1999) (TX00-103)

TX99-104 (Mar. 12, 1999) (TX00-104)

TX99-105 (Mar. 12, 1999) (TX00-105)

TX99-106 (Mar. 12, 1999) (TX00-106)

TX99-107 (Mar. 12, 1999) (TX00-107)

TX99-108 (Mar. 12, 1999) (TX00-108)

TX99-109 (Mar. 12, 1999) (TX00-109)

TX99-110 (Mar. 12, 1999) (TX00-110)

TX99-111 (Mar. 12, 1999) (TX00-111)

TX99-112 (Mar. 12, 1999) (TX00-112)

TX99-113 (Mar. 12, 1999) (TX00-113)

TX99-114 (Mar. 12, 1999) (TX00-114)

TX99-115 (Mar. 12, 1999) (TX00-115)

TX99-116 (Mar. 12, 1999) (TX00-116)

TX99-117 (Mar. 12, 1999) (TX00-117)

TX99-118 (Mar. 12, 1999) (TX00-118)

TX99-119 (Mar. 12, 1999) (TX00-119)

TX99-120 (Mar. 12, 1999) (TX00-120)

Volume VI

Alaska

AK99-01 (Mar. 12, 1999) (AK00-01)

AK99-02 (Mar. 12, 1999) (AK00-02)

AK99-03 (Mar. 12, 1999) (AK00-03)

AK99-04 (Mar. 12, 1999) (AK00-04)

AK99-05 (Mar. 12, 1999) (AK00-05)

AK99-06 (Mar. 12, 1999) (AK00-06)

AK99-07 (Mar. 12, 1999) (AK00-07)

AK99-08 (Mar. 12, 1999) (AK00-08)

Colorado

CO99-01 (Mar. 12, 1999) (CO00-01)

CO99-02 (Mar. 12, 1999) (CO00-02)

CO99-03 (Mar. 12, 1999) (CO00-03)

CO99-04 (Mar. 12, 1999) (CO00-04)

CO99-05 (Mar. 12, 1999) (CO00-05)

CO99-06 (Mar. 12, 1999) (CO00-06)

CO99-07 (Mar. 12, 1999) (CO00-07)

CO99-08 (Mar. 12, 1999) (CO00-08)

CO99-09 (Mar. 12, 1999) (CO00-09)

CO99-10 (Mar. 12, 1999) (CO00-10)

CO99-11 (Mar. 12, 1999) (CO00-11)

CO99-12 (Mar. 12, 1999) (CO00-12)

CO99-13 (Mar. 12, 1999) (CO00-13)

CO99-14 (Mar. 12, 1999) (CO00-14)

CO99-15 (Mar. 12, 1999) (CO00-15)

CO99-16 (Mar. 12, 1999) (CO00-16)

CO99-17 (Mar. 12, 1999) (CO00-17)

CO99-18 (Mar. 12, 1999) (CO00-18)

CO99-19 (Mar. 12, 1999) (CO00-19)

CO99-20 (Mar. 12, 1999) (CO00-20)

CO99-21 (Mar. 12, 1999) (CO00-21)

CO99-22 (Mar. 12, 1999) (CO00-22)

CO99-23 (Mar. 12, 1999) (CO00-23)

CO99-24 (Mar. 12, 1999) (CO00-24)

CO99-25 (Mar. 12, 1999) (CO00-25)

CO99-26 (Mar. 12, 1999) (CO00-26)

CO99-27 (Mar. 12, 1999) (CO00-27)

CO99-28 (Mar. 12, 1999) (CO00-28)

CO99-29 (Mar. 12, 1999) (CO00-29)

CO99-30 (Mar. 12, 1999) (CO00-30)

CO99-31 (Mar. 12, 1999) (CO00-31)

CO99-32 (Mar. 12, 1999) (CO00-32)

CO99-33 (Mar. 12, 1999) (CO00-33)

CO99-34 (Mar. 12, 1999) (CO00-34)

CO99-35 (Mar. 12, 1999) (CO00-35)

Idaho

ID99-01 (Mar. 12, 1999) (ID00-01)

ID99-02 (Mar. 12, 1999) (ID00-02)

ID99-03 (Mar. 12, 1999) (ID00-03)

ID99-04 (Mar. 12, 1999) (ID00-04)

ID99-05 (Mar. 12, 1999) (ID00-05)

ID99-06 (Mar. 12, 1999) (ID00-06)

ID99-07 (Mar. 12, 1999) (ID00-07)

ID99-08 (Mar. 12, 1999) (ID00-08)

ID99-09 (Mar. 12, 1999) (ID00-09)

ID99-10 (Mar. 12, 1999) (ID00-10)

ID99-11 (Mar. 12, 1999) (ID00-11)

ID99-12 (Mar. 12, 1999) (ID00-12)

ID99-13 (Mar. 12, 1999) (ID00-13)

ID99-14 (Mar. 12, 1999) (ID00-14)

Montana

MT99-01 (Mar. 12, 1999) (MT00-01)

MT99-02 (Mar. 12, 1999) (MT00-02)

MT99-03 (Mar. 12, 1999) (MT00-03)

MT99-04 (Mar. 12, 1999) (MT00-04)

MT99-05 (Mar. 12, 1999) (MT00-05)

MT99-06 (Mar. 12, 1999) (MT00-06)

MT99-07 (Mar. 12, 1999) (MT00-07)

MT99-08 (Mar. 12, 1999) (MT00-08)

MT99-09 (Mar. 12, 1999) (MT00-09)

MT99-10 (Mar. 12, 1999) (MT00-10)

MT99-11 (Mar. 12, 1999) (MT00-11)

MT99-12 (Mar. 12, 1999) (MT00-12)

MT99-13 (Mar. 12, 1999) (MT00-13)

MT99-14 (Mar. 12, 1999) (MT00-14)

MT99-15 (Mar. 12, 1999) (MT00-15)

MT99-16 (Mar. 12, 1999) (MT00-16)

MT99-17 (Mar. 12, 1999) (MT00-17)

MT99-18 (Mar. 12, 1999) (MT00-18)

MT99-19 (Mar. 12, 1999) (MT00-19)

MT99-20 (Mar. 12, 1999) (MT00-20)

MT99-21 (Mar. 12, 1999) (MT00-21)

MT99-22 (Mar. 12, 1999) (MT00-22)

MT99-23 (Mar. 12, 1999) (MT00-23)

MT99-24 (Mar. 12, 1999) (MT00-24)

MT99-25 (Mar. 12, 1999) (MT00-25)

MT99-26 (Mar. 12, 1999) (MT00-26)

MT99-27 (Mar. 12, 1999) (MT00-27)

MT99-28 (Mar. 12, 1999) (MT00-28)

MT99-29 (Mar. 12, 1999) (MT00-29)

MT99-30 (Mar. 12, 1999) (MT00-30)

MT99-31 (Mar. 12, 1999) (MT00-31)

MT99-32 (Mar. 12, 1999) (MT00-32)

MT99-33 (Mar. 12, 1999) (MT00-33)

MT99-34 (Mar. 12, 1999) (MT00-34)

MT99-35 (Mar. 12, 1999) (MT00-35)

North Dakota

ND99-01 (Mar. 12, 1999) (ND00-01)

ND99-02 (Mar. 12, 1999) (ND00-02)

ND99-03 (Mar. 12, 1999) (ND00-03)

ND99-04 (Mar. 12, 1999) (ND00-04)

ND99-05 (Mar. 12, 1999) (ND00-05)

ND99-06 (Mar. 12, 1999) (ND00-06)

ND99-07 (Mar. 12, 1999) (ND00-07)

ND99-08 (Mar. 12, 1999) (ND00-08)

ND99-09 (Mar. 12, 1999) (ND00-09)

ND99-10 (Mar. 12, 1999) (ND00-10)

ND99-11 (Mar. 12, 1999) (ND00-11)

ND99-12 (Mar. 12, 1999) (ND00-12)

ND99-13 (Mar. 12, 1999) (ND00-13)

ND99-14 (Mar. 12, 1999) (ND00-14)

ND99-15 (Mar. 12, 1999) (ND00-15)

ND99-16 (Mar. 12, 1999) (ND00-16)

ND99-17 (Mar. 12, 1999) (ND00-17)

ND99-18 (Mar. 12, 1999) (ND00-18)

ND99-19 (Mar. 12, 1999) (ND00-19)

ND99-20 (Mar. 12, 1999) (ND00-20)

ND99-21 (Mar. 12, 1999) (ND00-21)

ND99-22 (Mar. 12, 1999) (ND00-22)

ND99-23 (Mar. 12, 1999) (ND00-23)

ND99-24 (Mar. 12, 1999) (ND00-24)

ND99-25 (Mar. 12, 1999) (ND00-25)

ND99-26 (Mar. 12, 1999) (ND00-26)

ND99-27 (Mar. 12, 1999) (ND00-27)

ND99-28 (Mar. 12, 1999) (ND00-28)

ND99-29 (Mar. 12, 1999) (ND00-29)

ND99-30 (Mar. 12, 1999) (ND00-30)

ND99-31 (Mar. 12, 1999) (ND00-31)

ND99-32 (Mar. 12, 1999) (ND00-32)

ND99-33 (Mar. 12, 1999) (ND00-33)

ND99-34 (Mar. 12, 1999) (ND00-34)

ND99-35 (Mar. 12, 1999) (ND00-35)

ND99-36 (Mar. 12, 1999) (ND00-36)

ND99-37 (Mar. 12, 1999) (ND00-37)

ND99-38 (Mar. 12, 1999) (ND00-38)

ND99-39 (Mar. 12, 1999) (ND00-39)

ND99-40 (Mar. 12, 1999) (ND00-40)

ND99-41 (Mar. 12, 1999) (ND00-41)

ND99-42 (Mar. 12, 1999) (ND00-42)

ND99-43 (Mar. 12, 1999) (ND00-43)

ND99-44 (Mar. 12, 1999) (ND00-44)

ND99-45 (Mar. 12, 1999) (ND00-45)

ND99-46 (Mar. 12, 1999) (ND00-46)

ND99-47 (Mar. 12, 1999) (ND00-47)

ND99-48 (Mar. 12, 1999) (ND00-48)

ND99-49 (Mar. 12, 1999) (ND00-49)

ND99-50 (Mar. 12, 1999) (ND00-50)

ND99-51 (Mar. 12, 1999) (ND00-51)

ND99-52 (Mar. 12, 1999) (ND00-52)

ND99-53 (Mar. 12, 1999) (ND00-53)

Oregon

OR99-01 (Mar. 12, 1999) (OR00-01)

OR99-02 (Mar. 12, 1999) (OR00-02)

OR99-03 (Mar. 12, 1999) (OR00-03)

OR99-04 (Mar. 12, 1999) (OR00-04)

OR99-05 (Mar. 12, 1999) (OR00-05)

OR99-06 (Mar. 12, 1999) (OR00-06)

OR99-07 (Mar. 12, 1999) (OR00-07)

OR99-08 (Mar. 12, 1999) (OR00-08)

OR99-09 (Mar. 12, 1999) (OR00-09)

OR99-10 (Mar. 12, 1999) (OR00-10)

OR99-11 (Mar. 12, 1999) (OR00-11)

OR99-12 (Mar. 12, 1999) (OR00-12)

OR99-13 (Mar. 12, 1999) (OR00-13)

OR99-14 (Mar. 12, 1999) (OR00-14)

OR99-15 (Mar. 12, 1999) (OR00-15)

OR99-16 (Mar. 12, 1999) (OR00-16)

OR99-17 (Mar. 12, 1999) (OR00-17)

South Dakota

SD99-01 (Mar. 12, 1999) (SD00-01)

SD99-02 (Mar. 12, 1999) (SD00-02)

SD99-03 (Mar. 12, 1999) (SD00-03)

SD99-04 (Mar. 12, 1999) (SD00-04)

SD99-05 (Mar. 12, 1999) (SD00-05)

SD99-06 (Mar. 12, 1999) (SD00-06)

SD99-07 (Mar. 12, 1999) (SD00-07)

SD99-08 (Mar. 12, 1999) (SD00-08)

SD99-09 (Mar. 12, 1999) (SD00-09)

SD99-10 (Mar. 12, 1999) (SD00-10)

SD99-11 (Mar. 12, 1999) (SD00-11)

SD99-12 (Mar. 12, 1999) (SD00-12)

SD99-13 (Mar. 12, 1999) (SD00-13)

SD99-14 (Mar. 12, 1999) (SD00-14)

SD99-15 (Mar. 12, 1999) (SD00-15)

SD99-16 (Mar. 12, 1999) (SD00-16)

SD99-17 (Mar. 12, 1999) (SD00-17)

SD99-18 (Mar. 12, 1999) (SD00-18)

SD99-19 (Mar. 12, 1999) (SD00-19)

SD99-20 (Mar. 12, 1999) (SD00-20)

SD99-21 (Mar. 12, 1999) (SD00-21)

SD99-22 (Mar. 12, 1999) (SD00-22)

SD99-23 (Mar. 12, 1999) (SD00-23)

SD99-24 (Mar. 12, 1999) (SD00-24)

SD99-25 (Mar. 12, 1999) (SD00-25)

SD99-26 (Mar. 12, 1999) (SD00-26)

SD99-27 (Mar. 12, 1999) (SD00-27)

SD99-28 (Mar. 12, 1999) (SD00-28)

SD99-29 (Mar. 12, 1999) (SD00-29)

SD99-30 (Mar. 12, 1999) (SD00-30)

SD99-31 (Mar. 12, 1999) (SD00-31)

SD99-32 (Mar. 12, 1999) (SD00-32)

SD99-33 (Mar. 12, 1999) (SD00-33)

SD99-34 (Mar. 12, 1999) (SD00-34)

SD99-35 (Mar. 12, 1999) (SD00-35)

SD99-36 (Mar. 12, 1999) (SD00-36)

SD99-37 (Mar. 12, 1999) (SD00-37)

SD99-38 (Mar. 12, 1999) (SD00-38)

SD99-39 (Mar. 12, 1999) (SD00-39)

SD99-40 (Mar. 12, 1999) (SD00-40)

SD99-41 (Mar. 12, 1999) (SD00-41)

SD99-42 (Mar. 12, 1999) (SD00-42)

SD99-43 (Mar. 12, 1999) (SD00-43)

SD99-44 (Mar. 12, 1999) (SD00-44)

Utah

UT99-01 (Mar. 12, 1999) (UT00-01)

UT99-02 (Mar. 12, 1999) (UT00-02)

UT99-03 (Mar. 12, 1999) (UT00-03)

UT99-04 (Mar. 12, 1999) (UT00-04)

UT99-05 (Mar. 12, 1999) (UT00-05)

UT99-06 (Mar. 12, 1999) (UT00-06)

UT99-07 (Mar. 12, 1999) (UT00-07)

UT99-08 (Mar. 12, 1999) (UT00-08)

UT99-09 (Mar. 12, 1999) (UT00-09)

UT99-10 (Mar. 12, 1999) (UT00-10)

UT99-11 (Mar. 12, 1999) (UT00-11)

UT99-12 (Mar. 12, 1999) (UT00-12)

UT99-13 (Mar. 12, 1999) (UT00-13)

UT99-14 (Mar. 12, 1999) (UT00-14)

UT99-15 (Mar. 12, 1999) (UT00-15)

UT99-16 (Mar. 12, 1999) (UT00-16)

UT99-17 (Mar. 12, 1999) (UT00-17)

UT99-18 (Mar. 12, 1999) (UT00-18)

UT99-19 (Mar. 12, 1999) (UT00-19)

UT99-20 (Mar. 12, 1999) (UT00-20)

UT99-21 (Mar. 12, 1999) (UT00-21)

UT99-22 (Mar. 12, 1999) (UT00-22)

UT99-23 (Mar. 12, 1999) (UT00-23)

UT99-24 (Mar. 12, 1999) (UT00-24)

UT99-25 (Mar. 12, 1999) (UT00-25)

UT99-26 (Mar. 12, 1999) (UT00-26)

UT99-27 (Mar. 12, 1999) (UT00-27)

UT99-28 (Mar. 12, 1999) (UT00-28)

UT99-29 (Mar. 12, 1999) (UT00-29)

UT99-30 (Mar. 12, 1999) (UT00-30)

UT99-31 (Mar. 12, 1999) (UT00-31)

UT99-32 (Mar. 12, 1999) (UT00-32)

UT99-33 (Mar. 12, 1999) (UT00-33)

UT99-34 (Mar. 12, 1999) (UT00-34)

UT99-35 (Mar. 12, 1999) (UT00-35)

UT99-36 (Mar. 12, 1999) (UT00-36)

Washington

WA99-01 (Mar. 12, 1999) (WA00-01)

WA99-02 (Mar. 12, 1999) (WA00-02)

WA99-03 (Mar. 12, 1999) (WA00-03)

WA99-04 (Mar. 12, 1999) (WA00-04)

WA99-05 (Mar. 12, 1999) (WA00-05)

WA99-06 (Mar. 12, 1999) (WA00-06)

WA99-07 (Mar. 12, 1999) (WA00-07)

WA99-08 (Mar. 12, 1999) (WA00-08)

WA99-09 (Mar. 12, 1999) (WA00-09)

WA99-10 (Mar. 12, 1999) (WA00-10)

WA99-11 (Mar. 12, 1999) (WA00-11)

WA99-12 (Mar. 12, 1999) (WA00-12)

WA99-13 (Mar. 12, 1999) (WA00-13)

WA99-14 (Mar. 12, 1999) (WA00-14)

WA99-15 (Mar. 12, 1999) (WA00-15)

WA99-16 (Mar. 12, 1999) (WA00-16)

WA99-17 (Mar. 12, 1999) (WA00-17)

WA99-18 (Mar. 12, 1999) (WA00-18)

WA99-19 (Mar. 12, 1999) (WA00-19)

WA99-20 (Mar. 12, 1999) (WA00-20)

WA99-21 (Mar. 12, 1999) (WA00-21)

WA99-22 (Mar. 12, 1999) (WA00-22)

WA99-23 (Mar. 12, 1999) (WA00-23)

WA99-24 (Mar. 12, 1999) (WA00-24)

WA99-25 (Mar. 12, 1999) (WA00-25)

WA99-26 (Mar. 12, 1999) (WA00-26)

WA99-27 (Mar. 12, 1999) (WA00-27)

Wyoming

WY99-01 (Mar. 12, 1999) (WY00-01)

WY99-02 (Mar. 12, 1999) (WY00-02)

WY99-03 (Mar. 12, 1999) (WY00-03)

WY99-04 (Mar. 12, 1999) (WY00-04)

WY99-05 (Mar. 12, 1999) (WY00-05)

WY99-06 (Mar. 12, 1999) (WY00-06)

WY99-07 (Mar. 12, 1999) (WY00-07)

WY99-08 (Mar. 12, 1999) (WY00-08)

WY99-09 (Mar. 12, 1999) (WY00-09)

WY99-10 (Mar. 12, 1999) (WY00-10)

WY99-11 (Mar. 12, 1999) (WY00-11)

WY99-12 (Mar. 12, 1999) (WY00-12)

WY99-13 (Mar. 12, 1999) (WY00-13)

WY99-14 (Mar. 12, 1999) (WY00-14)

WY99-15 (Mar. 12, 1999) (WY00-15)

WY99-16 (Mar. 12, 1999) (WY00-16)

WY99-17 (Mar. 12, 1999) (WY00-17)

WY99-18 (Mar. 12, 1999) (WY00-18)

WY99-19 (Mar. 12, 1999) (WY00-19)

WY99-20 (Mar. 12, 1999) (WY00-20)

WY99-21 (Mar. 12, 1999) (WY00-21)

WY99-22 (Mar. 12, 1999) (WY00-22)

WY99-23 (Mar. 12, 1999) (WY00-23)

WY99-24 (Mar. 12, 1999) (WY00-24)

Volume VII

Arizona

AZ99-01 (Mar. 12, 1999) (AZ00-01)

AZ99-02 (Mar. 12, 1999) (AZ00-02)

AZ99-03 (Mar. 12, 1999) (AZ00-03)

AZ99-04 (Mar. 12, 1999) (AZ00-04)

AZ99-05 (Mar. 12, 1999) (AZ00-05)

AZ99-06 (Mar. 12, 1999) (AZ00-06)

AZ99-07 (Mar. 12, 1999) (AZ00-07)

AZ99-08 (Mar. 12, 1999) (AZ00-08)

AZ99-09 (Mar. 12, 1999) (AZ00-09)

AZ99-10 (Mar. 12, 1999) (AZ00-10)

AZ99-11 (Mar. 12, 1999) (AZ00-11)

AZ99-12 (Mar. 12, 1999) (AZ00-12)

AZ99-13 (Mar. 12, 1999) (AZ00-13)

AZ99-14 (Mar. 12, 1999) (AZ00-14)

AZ99-15 (Mar. 12, 1999) (AZ00-15)

AZ99-16 (Mar. 12, 1999) (AZ00-16)

AZ99-17 (Mar. 12, 1999) (AZ00-17)

AZ99-18 (Mar. 12, 1999) (AZ00-18)

AZ99-19 (Mar. 12, 1999) (AZ00-19)

AZ99-20 (Mar. 12, 1999) (AZ00-20)

California

CA99-01 (Mar. 12, 1999) (CA00-01)

CA99-02 (Mar. 12, 1999) (CA00-02)

CA99-03 (Mar. 12, 1999) (CA00-03)

CA99-04 (Mar. 12, 1999) (CA00-04)

CA99-05 (Mar. 12, 1999) (CA00-05)

CA99-06 (Mar. 12, 1999) (CA00-06)

CA99-07 (Mar. 12, 1999) (CA00-07)

CA99-08 (Mar. 12, 1999) (CA00-08)

CA99-09 (Mar. 12, 1999) (CA00-09)

CA99-10 (Mar. 12, 1999) (CA00-10)

CA99-11 (Mar. 12, 1999) (CA00-11)

CA99-12 (Mar. 12, 1999) (CA00-12)

CA99-13 (Mar. 12, 1999) (CA00-13)

CA99-14 (Mar. 12, 1999) (CA00-14)

CA99-15 (Mar. 12, 1999) (CA00-15)

CA99-16 (Mar. 12, 1999) (CA00-16)

CA99-17 (Mar. 12, 1999) (CA00-17)

CA99-18 (Mar. 12, 1999) (CA00-18)

CA99-19 (Mar. 12, 1999) (CA00-19)

CA99-20 (Mar. 12, 1999) (CA00-20)

CA99-21 (Mar. 12, 1999) (CA00-21)

CA99-22 (Mar. 12, 1999) (CA00-22)

CA99-23 (Mar. 12, 1999) (CA00-23)

CA99-24 (Mar. 12, 1999) (CA00-24)

CA99-25 (Mar. 12, 1999) (CA00-25)

CA99-26 (Mar. 12, 1999) (CA00-26)

CA99-27 (Mar. 12, 1999) (CA00-27)

CA99-28 (Mar. 12, 1999) (CA00-28)

CA99-29 (Mar. 12, 1999) (CA00-29)

CA99-30 (Mar. 12, 1999) (CA00-30)

CA99-31 (Mar. 12, 1999) (CA00-31)

CA99-32 (Mar. 12, 1999) (CA00-32)

CA99-33 (Mar. 12, 1999) (CA00-33)

CA99-34 (Mar. 12, 1999) (CA00-34)

CA99-35 (Mar. 12, 1999) (CA00-35)

CA99-36 (Mar. 12, 1999) (CA00-36)

CA99-37 (Mar. 12, 1999) (CA00-37)

CA99-38 (Mar. 12, 1999) (CA00-38)

CA99-39 (Mar. 12, 1999) (CA00-39)

CA99-40 (Mar. 12, 1999) (CA00-40)

CA99-41 (Mar. 12, 1999) (CA00-41)

Hawaii

HI99-01 (Mar. 12, 1999) (HI00-01)

Nevada

NV99-01 (Mar. 12, 1999) (NV00-01)

NV99-02 (Mar. 12, 1999) (NV00-02)

NV99-03 (Mar. 12, 1999) (NV00-03)

NV99-04 (Mar. 12, 1999) (NV00-04)

NV99-05 (Mar. 12, 1999) (NV00-05)

NV99-06 (Mar. 12, 1999) (NV00-06)

NV99-07 (Mar. 12, 1999) (NV00-07)

NV99-08 (Mar. 12, 1999) (NV00-08)

NV99-09 (Mar. 12, 1999) (NV00-09)

General Wage Determination Publication

General Wage Determinations issued under the Davis-Bacon and related Acts, including those noted above, may be found in the Government Printing Office (GPO) document entitled “General Wage Determinations Issued Under The Davis-Bacon and Related Acts.” This publication is available at each of the 50 Regional Government Depository Libraries and many of the 1,400 Government Depository Libraries across the country.

The general wage determinations issued under the Davis-Bacon and related Acts are available electronically by subscription to the FedWorld Bulletin Board System of the National Technical Information Service (NTIS) of the U.S. Department of Commerce at 1-800-363-2068.

Hard-copy subscriptions may be purchased from: Superintendent of Documents, U.S. Government Printing Office, Washington, DC 20402; (202) 512-1800.

When ordering hard-copy subscription(s), be sure to specify the State(s) of interest, since subscriptions may be ordered for any or all of the seven separate volumes, arranged by State. Subscriptions include an annual edition (issued in January or February) which includes all current general wage determinations for the States covered by each volume. Throughout the remainder of the year, regular weekly updates are distributed to subscribers.

Signed at Washington, DC, this 1st day of February 2000.
Carl J. Poleskey,
Chief, Branch of Construction Wage Determinations.

[FR Doc. 00-2506 Filed 2-10-00; 8:45 am]

BILLING CODE 4510-27-M